DEPARTMENT OF HOUSING AND URBAN DEVELOPMENT

[Docket No. FR-5907-N-07]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Juanita Perry, Department of Housing and Urban Development, 451 Seventh Street SW., Room 7262, Washington, DC 20410; telephone (202) 402-3970; TDD number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD reviewed in 2015 for suitability for use to assist the homeless. The properties were reviewed using information provided to HUD by Federal landholding agencies regarding unutilized and underutilized buildings and real property controlled by such agencies or by GSA regarding its inventory of excess or surplus Federal property.

In accordance with 24 CFR part 581.3(b) landholding agencies were required to notify HUD by December 31, 2015, the current availability status and classification of each property controlled by the Agencies that were published by HUD as suitable and available which remain available for application for use by the homeless.

Pursuant to 24 CFR part 581.8(d) and (e) HUD is required to publish a list of those properties reported by the Agencies and a list of suitable/unavailable properties including the reasons why they are not available.

Where property is described as for “off-site use only” recipients of the property will be required to relocate the building to their own site at their own expense. Homeless assistance providers interested in any such property should send a written expression of interest to HHS, addressed to Theresa Ritta, Division of Property Management, Program Support Center, HHS, Room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For more information regarding particular properties identified in this Notice (e.g., acreage, floor plan, existing sanitary facilities, exact street address), providers should contact the appropriate landholding agencies at the following addresses: AGRICULTURE: Ms. Debra Kerr, Department of Agriculture, Reporters Building, 300 7th Street SW., Room 300, Washington, DC 20024, (202) 720-8873; AIR FORCE: Mr. Robert E. Moriarty, P.E., AFCEC/CI, 2261 Hughes Avenue, Ste. 155, JBSA Lackland, TX 78236-9853; ARMY: Ms. Veronica Rines, Office of the Assistant Chief of Staff for Installation Management, Department of the Army, Room 5A128, 600 Army Pentagon, Washington, DC 20310, (571) 256-8145; COE: Mr. Scott Whiteford, Army Corps of Engineers, Real Estate, CEMP-CR, 441 G Street NW., Washington, DC 20314; (202) 761-5542; GSA: Mr. Flavio Peres, General Services Administration, Office of Real Property Utilization and Disposal, 1800 F Street NW., Room 7040, Washington, DC 20405, (202) 501-0084; INTERIOR: Mr. Michael Wright, Acquisition & Property Management, Department of the Interior, 3960 N. 56th Ave. #104, Hollywood, FL 33021; (443) 223-4639; NAVY: Mr. Steve Matteo, Department of the Navy, Asset Management Division, Naval Facilities Engineering Command, Washington Navy Yard, 1330 Patterson Ave. SW., Suite 1000, Washington, DC 20374; (202) 685-9426; (These are not toll-free numbers).

Dated: February 4, 2016.
Brian P. Fitzmaurice,
Director, Division of Community Assistance, Office of Special Needs Assistance Programs.

TITLE V PROPERTIES REPORTED IN YEAR 2015 WHICH ARE SUITABLE AND AVAILABLE

Agriculture

Building

California

2 Buildings Property Number: 15201510014

5050 Smokey Court

Camp Connell CA 95223

Location: Site 5202, Bldg. 5002

Status: Excess

Comments: off-site removal; 48+ yrs. old; wood structure; 528 sq.; office; very poor conditions; no future agency need; contact Agriculture of more info.

Michigan

Ontonagon Ranger House Property Number: 15201430018

1205 Rockland Road

Ontonagon MI 49953

Status: Unutilized

Comments: 1,570 sq. ft., residential; 96+ months vacant; poor conditions; contact Agriculture for more information.

Luther Property Number: 15201530003

Fornell Road

Luzerne MI 48636

Status: Unutilized

Comments: off-site removal; no future agency need; 40+ yrs. old; 852 sq. ft.; vacant 36+ mos.; poor conditions; contact Agriculture for more information.

Sprinkler Lake Staff Dorm Property Number: 15201530005

1700 Adams Rd.,

Glennie MI 48737

Location: 51258 Staff Dormitory

Status: Unutilized

Comments: off-site removal only; no future agency need; 2,112 sq. ft.; removal difficult due to size/type; repairs needed; asbestos; contact Agriculture for more information.

Kenton Dwelling #3 Property Number: 15201530007

5005 East M-28

Kenton MI 49967

Location: Infra #1107

Status: Excess

Comments: 1,500 sq. ft.; residential; 50+ yrs. old; fair conditions; contact Agriculture for more information.

Reinhold Property Number: 15201530011

Red Water Dr.

Luzerne MI 48636

Status: Unutilized

Comments: off-site removal only; no future agency need; 1,560 sq. ft.; seasonal residence; removal diff. due to type/size; significant renvo. needed; contact Agriculture for more information.

Mississippi

Modular Office, Bio Lab Property Number: 15201530001

141 Experiment Station Road

Stoneville MS 38776

Location: ARS 640200B057 RPUID:03.480

Status: Unutilized

Comments: off-site removal; 13+ yrs. old; 960 sq. ft.; 13+ yrs. vacant; shelter; poor condition; no future Agency need; contact USDA for more information.

Quonset Hut Storage Property Number: 15201540001

(72-0005-TAL); Intersection of Rd. 2441/2081

Abbeville MS 38601

Location: (34 degrees 30′ 06.0″ N., 89 degrees 26′ 18.0″ W.)

Status: Excess

Comments: off-site removal only; 1,677 sq. ft.; storage; removal difficult due to type/size; needs new roof/siding; asbestos; contact Agriculture for more information.

Montana

Residential Garage W/1032 Property Number: 15201520025

Infra #1500

Ant Flat Road

Eureka MT 95501

Status: Excess

Comments: off-site removal only; 61+ yrs. old; 491 sq. ft.; storage; contact Agriculture for more information.

2-Bedroom Family Dwelling Property Number: 15201520026

Infra. #1032

Ant Flat Road

Eureka MT 95501

Location: Ant Flat Road

Status: Excess

Comments: off-site removal; 64+ yrs. old; 1,004 sq. ft.; residential; 30+ mos. vacant; experience extensive flood; damage which caused significant mold damage; contact Agriculture for more information.

New York

Hector Grazing Association Property Number: 15201510001

Hdgt. House

5046 Rt. 1 Searsburg Road

Hector NY 14886

Status: Unutilized

Comments: 125+ yrs. Old; 1,000 sq. ft.; storage; residential; vacant 96 NOS; wood structure; repaired needed in 2006 totaled $89,000; contact Agric. For more info.

Oregon

XX334 GB Grizzly Communication Property Number: 15201430020

Bldg. 1560.005181 076630 00

Agness OR 97406

Location:

25 sq.; shed; 39+ yrs. old; poor condition

Status: Excess

Comments: off-site removal only; restrictive removal due to constraints surrounding land/vegetation.

South Carolina

Witherbee Dwelling D (604) Property Number: 15201530015

2367 Witherbee Road

Cordesville SC 29434

Location: RPUID: #2120.006791

Status: Excess

Comments: off-site removal only; 1,400 sq. ft.; 84+ months vacant; residential; significant renvo. needed; asbestos/mold; a waiting funding for remediation; contact Agriculture for more information.

Witherbee Dwelling E (605) Property Number: 15201530016

2355 Witherbee Road

Cordesville SC 29434

Location: RPUID: #2121.006791

Status: Excess

Comments: off-site removal only; 1,400 sq. ft.; 84+ months vacant; residential; significant renvo. needed; asbestos/mold; awaiting funding for remediation; contact Agriculture for more information.

Witherbee Dwelling B (602) Property Number: 15201530017

2397 Witherbee Road

Cordesville SC 29434

Location: RPUID: #2222.006791

Status: Excess

Comments: off-site removal only; 1,400 sq. ft.; 84+ months vacant; residential; significant renov. needed; asbestos/mold; awaiting funding for remediation contact Agriculture for more information.

Witherbee Dwelling C (603) Property Number: 15201530018

2381 Witherbee Road

Cordesville SC 29434

Location: RPUID: #2119.006791

Status: Excess

Comments: off-site removal only; 1,455 sq. ft.; 84+ months vacant; residential; significant renov. needed; asbestos/mold; awaiting funding for remediation; contact Agriculture for more information.

Washington

Beth Lake Comfort Station Property Number: 15201520029

1303.005031

Beth Lake Campground

Chesaw WA 98844

Location: 0325-0765300

Status: Unutilized

Comments: off-site removal; 50+ yrs. old; 900 sq. ft.; toilet; 24+ mos. Vacant; not needs replacing; no future agency need; contact Agriculture for more information.

2 Buildings Property Number: 15201540002

Liscumm Road

Quinault WA 98575

Location: Residence-Norwood 1048 (1140.005071); Residence-Norwood 1047 (1139.005071) 07665 00 both bldgs. 1503 sq. ft.

Status: Excess

Comments: off-site removal only; 46+ yrs. old; 4+ & 36+ mos. vacant; residential; asbestos; may be difficult to move because of type & size; contact Agriculture for more information.

Wisconsin

Luepke Way Garage Property Number: 15201440005

207 Luepke Way

Medford WI 54451

Status: Unutilized

Comments: off-site removal only; no future agency need; 96+ months vacant; 576 sq. ft.; roof & siding in poor conditions; wood structure; contact Agriculture for more information.

Clam Lake Warehouse #364 Property Number: 15201510029

61766 Highway 77

Clam Lake WI 54517

Status: Unutilized

Comments: off-site removal only; no future agency need; 800 sq. ft.; storage; good condition; contact Agriculture for more information.

Air Force

Building

Alaska

2 Buildings Property Number: 18201310030

Industrial Ave.

Eielson AFB AK 99702

Location: 6213, 6214

Status: Unutilized

Comments: off-site removal only; sf. varies; major repairs needed; contact AF for more info. on a specific property & accessibility/removal reqs.

Building 720 Property Number: 18201320083

Fuel Lane

King Salmon Airport AK

Status: Unutilized

Comments: 285 sf.; fuel building; 24+ months vacant; deteriorated; periodic flooding (next to Naknek River)

Land

Parcel of Land Property Number: 18201330011

Joint Base Elmendorf Richardson

JBER AK 99506

Status: Underutilized

Comments: 20x20 (400sf.); secured area; must obtain a visitor's pass & have a gov't sponsor escort to access installation; contact Air Force for more info.

37,515 SF of Land Property Number: 18201340003

JBER-Elmendorf

JBER AK 99506

Status: Underutilized

Comments: restricted area; transferee must obtain a government sponsor to access property; contact Air Force for more info.

Arkansas

23.7 Acres Property Number: 18201520021

Harris Road/Little Rock AFB

Little Rock AR 72099

Status: Unutilized

Comments: 23.7 Acres; contact AF for more information.

Building

California

Building 1028 Property Number: 18201240009

19338 North St.

Beale CA 95903

Status: Unutilized

Comments: 178 sf.; storage; poor conditions; asbestos & lead; restricted area; contact AF for info. on accessibility requirements.

Building 2153 Property Number: 18201240010

6900 Warren Shingle

Beale AFB CA 95903

Status: Unutilized

Comments: 4,000; very poor conditions; asbestos & lead possible; restricted area; contact AF for info. on accessibility requirements.

2 Buildings Property Number: 18201510018

Edwards AF Base

Edwards AF Base CA 93524

Location: 9590 (384 sq. ft.); 9592 (384 sq. ft.), 9590 (384 sq. ft.); 9592 (384 sq. ft.)

Status: Unutilized

Comments: off-site removal; 57+ yrs. old; 9 yrs. vacant; masonry block; camera sites; no future agency need; contact AF for more info.

Colorado

Building 00001 Property Number: 18201430002

Hawkinsville Space Surveillance Station

Peterson AFB CO

Status: Excess

Comments: 2,880 sq. ft.; 4+ months vacant; fair to good conditions; environmental conditions exist; contact Air Force for more information.

Building 0001 Property Number: 18201430003

Lake Kickapoo Space Surveillance Station

Peterson AFR CO

Status: Excess

Comments: 3,710 sq. ft.; 9+ months vacant; fair to good conditions; environmental condition exists; contact Air Force.

Building 00006 Property Number: 18201430004

Red River Space Surveillance Center

Peterson AFK CO

Status: Excess

Comments: 196 sq. ft.; 4+ months vacant; fair to good conditions; contact Air Force for more information.

Building 00003 Property Number: 18201430006

Hawkinsville Space Surveillance Station

Peterson AFB CO

Status: Excess

Comments: 1,650 sq. ft.; 4+ months vacant; good to fair conditions; contact Air Force for more information.

Lake Kickapoo Space Property Number: 18201430007

Surveillance Station

Peterson AFB CO

Status: Excess

Comments: 800 sq. ft.; 4+ months vacant; repairs needed; contact Air Force for more information.

Jordan Lake Space Property Number: 18201430008

Surveillance Station

Peterson AFB CO

Location: Buildings 00001; 00003; 00006

Status: Excess

Comments: Building 1: 2,565 sq. ft.; building 3: 800 sq. ft.; building 6: 156 sq. ft.; good to moderate conditions; contact Air Force for more information.

Building 00006 Property Number: 18201430009

Hawkinsville Space Surveillance Station

Peterson AFB CO

Status: Excess

Comments: 172 sq. ft.; repairs needed; contact Air Force for more information.

4 Buildings Property Number: 18201430010

San Diego Space Surveillance Station

Peterson AFB CO

Location: Buildings 00001; 00003; 00026; 00081

Status: Excess

Comments: Building: 1 = 5,002 sq. ft.; Building: 3 = 900 sq. ft.; Building 26 = 500 sq. ft.; Building 81 = 800 sq. ft.; good to poor conditions.

3 Buildings Property Number: 18201430017

Lake Kickapoo Space Surveillance Station

Peterson AFB CO

Location: Buildings 00006; 00007; 00009

Status: Excess

Comments: Building 6—400 Sq. ft.; building 7—1,109 sq. ft.; building 9—100 sq. ft.; repairs needed; contact Air Force for more information.

Buildings 00001 and 00003 Property Number: 18201430018

Red River Space Surveillance Center

Peterson AFB CO

Status: Excess

Comments: Building 1—2,755 sq. ft.; building 3—775 sq. ft.; good conditions; contact Air Force for more information.

2 Buildings Property Number: 18201430019

Tattnall Space Surveillance Station

Peterson AFB CO

Location: Buildings 00006 and 00001

Status: Excess

Comments: Building 6—80 sq. ft.; building 1—2,807 sq. ft.; good conditions; contact Air Force for more information.

Land

Red River Space Surveillance Property Number: 18201430011

Center

Lat. 33.19 50.77431 N Long. 093.33 00.35121 W

Peterson AFB CO

Status: Excess

Comments: 60 acres; contact Air Force for more information.

Jordan Lake Space Surveillance Property Number: 18201430012

Station

Lat. 32 39 32.4828 N. Long. 086 15 48.6672 W.

Peterson AFB CO

Status: Excess

Comments: 9 acres; contact Air Force for more information.

San Diego Space Surveillance Property Number: 18201430013

Station

Lat. 32 34 38.69636 N. Long. 116 58 28.92446 W.

Peterson AFB CO

Status: Excess

Comments: 109 acres; contact Air force for more information.

Lake Kickapoo Space Property Number: 18201430014

Surveillance Station

Lat. 33 33 14.33880 N. Long. 098 45 46.47286 W.

Peterson AFB CO

Status: Excess

Comments: 1,342 acres; contact Air Force for more information.

Hawkinsville Space Surveillance Property Number: 18201430015

Station

Lat. 32 17 15.1011 N. Long. 083 32 11.1625 W.

Peterson AFB CO

Status: Excess

Comments: 131 acres; contact Air Force for more information.

Tattnall Space Surveillance Property Number: 18201430016

Station

Lat. 32 02 37.6891 N. Long. 081 55 33.2267 W.

Peterson AFB CO

Status: Excess

Comments: 102 acres; contact Air Force for more information.

Building

Florida

Building 5002 Property Number: 18201310010

6801 Hwy 98

Tyndall AFB FL 32403

Status: Unutilized

Comments: 151 sf.; water pump station; 6 mons. vacant; major repairs; restricted area; contact AF for info. on accessibility reqs.

2 Buildings Property Number: 18201340040

CoCoa Beach Tracking Annex

Cocoa Beach FL 32931

Location: 00001 (59 sq. ft.); 00002 (1,030 sq. ft.)

Status: Unutilized

Comments: 56+ yrs. old; 24+ months vacant; launch support; fair conditions; contact Air Force for more info.

3 Buildings Property Number: 18201510036

Eglin AFB; FTFA 0001

Duke Field FL 32542

Location: 3298 (120 sq. ft.); 3043 (121 KG); 3034 (152 sq. ft.)

Status: Unutilized

Comments: off-site removal only; no future agency need; 60+ yrs. old; sewage disposal storage; vacant 12+ mons.; deteriorated; may be difficult to move; contact Air Force for more information.

3 Buildings Property Number: 18201510039

Eglin AFB

Eglin AFB FL 32542

Location: 2202 (590 sq. ft.); 8703 (540 sq. ft.); 1389 (782 sq. ft.)

Status: Unutilized

Comments: off-site removal only; no future agency need; maybe difficult to move; 28+ yrs.-old; vacant 12+ mons.; latrine; contact Air Force for more information.

Building 1356 Property Number: 18201510043

Eglin AFB

Eglin FL 32542

Status: Unutilized

Comments: off-site removal only; no future agency need; 100 sq. ft.; weapon inspection; 12+ months vacant; deteriorated; contact Air Force for more information.

2 Buildings Property Number: 18201530019

Eglin AFB

Eglin AFB FL 32542

Location: 9449 (900 sq. ft.; storage); 12711 (2,638 sq. ft.; communication bldg.)

Status: Unutilized

Comments: buildings need repairs; controlled access required to get on range; contact AF for more details on a specific property.

Building 9450 Property Number: 18201530020

Eglin AFB

Eglin AFB FL 32542

Status: Unutilized

Comments: 360 sq. ft.; storage; 61+ yrs.-old; repairs needed; controlled access required to get on range; contact AF for more information.

Building 9456 Property Number: 18201530021

Eglin AFB

Eglin FL 32542

Status: Unutilized

Comments: 1,033 sq. ft.; storage; repairs needed; controlled access required to get on range; contact AF for more information.

2 Buildings Property Number: 18201530024

Fairway Drive

Niceville FL 32578

Location: 1542 (206 sq. ft.; restroom/storage); 1543 (170 sq. ft.; restroom)

Status: Unutilized

Comments: 50+ yrs. old; deteriorated; repairs needed; contact Air Force for more information on a specific property.

Land

WBPA (9901/72441/99300) Property Number: 18201310041

9901 E. Pine Ave.

St. George Island FL 32328

Status: Excess

Comments: .34 acres; tower & fence needs to be removed; remote access; contact AF for more info.

Building

Indiana

Grissom ARB, IN Property Number: 18201510011

3862 West County Road 800 South

Peru IN 46970

Status: Excess

Comments: 1.186 acres; held the previous control tower.

Bldg. 98 Comm Facility Property Number: 18201510020

2121 West Lightning Ave./Grissom ARB

Peru IN 46970

Status: Excess

Comments: 24+ yrs. old; vacant 36 mas; 864 sq. ft.; metal; floor needs repaired; prior approval to gain access required; contact AF for more info.

2 Buildings Property Number: 18201510041

Grissom AFB

Peru IN 46970

Location: 151 (3,084 sq. ft.); 100 (16,007 sq. ft.)

Status: Excess

Comments: 59+ yrs.-old; 36+ months vacant; masonry structure; storage; floor needs repair; prior approval to gain access is required; contact Air Force for more information.

Louisiana

Building 117 Property Number: 18201330046

Naval Air Station Joint Reserve Base

New Orleans LA 70143

Status: Excess

Comments: 3,975 sf.; storage; deteriorated; secured area; background check/pass required; contact Air Force for more info. re.; accessibility reqs.

Building 019 Property Number: 18201330050

Naval Air Station joint Reserve Base

New Orleans LA 70143

Status: Excess

Comments: 3,038 sq. ft.; storage; deteriorated; secured area; official ID required; contact Air Force for more information.

Building

Michigan

3 Buildings Property Number: 18201220020

Selfridge ANGB

Selfridge MI 48045

Location: 326, 780, 710

Status: Unutilized

Comments: off-site removal only; sf varies; office/school/barracks; fair conditions; need repairs.

Alpena Co Reg Apt Property Number: 18201430028

5884 A Street; Bulling 4012

Alpena MI 49707-8125

Status: Unutilized

Comments: off-site removal only; no future agency need; 2,000 sq. ft.; office/storage; deteriorated secured area; contact Air Force for more information.

MSBL 701 Property Number: 18201530001

701 Clubhouse Rd.

Joint Base MDL MI 08733

Status: Unutilized

Comments: off-site removal; 40+ yrs. old; 460 sq. ft.; storage; 12+ mos. Vacant; deteriorated; no future agency need; contact AF for more information.

Mississippi

Building 112 Property Number: 18201330041

CRTC Gulfport

Gulfport MS 39507

Status: Excess

Comments: 90 sf.; ATM bldg.; good conditions; contact Air Force for more info.

Land

Nebraska

P-4 GHUA Property Number: 18201540031

1419 Hwy 19

Sidney NE 82081

Status: Unutilized

Comments: 1 acre; launch facility in ground; contact Air Force for more information.

Building

Nevada

Facility 81 + 82 Property Number: 18201510019

1338 + 1340 3rd St.

Creech AFB NV 89018

Location: Facility 81 (1,440 sq. ft.); Facility 82 (1,440 sq. ft.)

Status: Underutilized

Comments: 32+ yrs. old; structures wood + metal; 83 squadron & office; located in a secure area; prior approval to gain access is required; contact AF for more info.

2 Buildings Property Number: 18201510027

Nellis AFB

Nellis AFB NV 89191

Location: #336 (13,093 sq. ft.); 1739 (1,800 sq. ft.)

Status: Unutilized

Comments: 45 Yrs. old; Brick; residential; prior approval needed to gain access; no future agency need; contact AF for more info.

Facility 2 Property Number: 18201520008

4455 Grissom

Nellis AFB NV 89156

Status: Unutilized

Comments: 33+ yrs. old; 10,044 sq. ft.; office; asbestos; escort or base pass required for entry; contact AF for more information.

FAM HSG RELO 600-603 Property Number: 18201520027

Gregg Circle on Parcel

008-261-19

Tonopah NV 89049

Status: Unutilized

Comments: off-site removal only; no future agency need; 4 mobile homes; residential; 1,344 sq. ft. each; major repairs needed; contamination; contact AF for more information.

New Hampshire

3 Buildings Property Number: 18201510015

373 Shattuck Way

Newington NH 03801

Location: Bldg. #1—(3,000 sq. ft.); 5(540 sq. ft.); 3000 (540 sq. ft.)

Status: Excess

Comments: off-site removal; 30+ yrs. old; 25 yrs. vacant; power station; office; concrete maybe difficult to move; roof gone on one side; contact AF for more info.

New Jersey

5 Buildings Property Number: 18201510029

West Arnold Ave.

Joint Base MDL NJ 08640

Location: 2104 (200 sq. ft.); 2105 (288 sq. ft.); 2106 (520 sq. ft.); 2107 (699 sq. ft.); 2108 (657 sq. ft.)

Status: Unutilized

Comments: off-site removal only; 58+ yrs. old; poor conditions; fuel stand; no future agency need; contact Air Force for more information

3 Buildings Property Number: 18201520015

Joint Base McGuire-Dix Lakehurst

Joint Base MDL NJ 08640

Location: Building #1506 (1,994 sq. ft.) 3606 (538 sq. ft.) #1506 (1,994 sq. ft.)

Status: Unutilized

Comments: off-site removal; 58-60+ yrs. old; 2+ mos. vacant; communications transmitter; water support bldg.; poor conditions; contact AF for more information.

Oklahoma

Building 1100 Property Number: 18201320024

7492 Patrol Road

Tinker AFB OK 73145

Status: Underutilized

Comments: off-site removal only; no future AF need; 5,471 sf.; maint. facility; fair/poor condition; controlled AF installation, contact AF for more info.

Building 1111 Property Number: 18201330028

Tinker AFB

Tinker OK 73145

Status: Unutilized

Comments: off-site removal only; no future agency need; 231 sf.; utility bldg.; generally good conditions; secured area; contact Air Force for more info.

Building 183 Property Number: 18201340001

Altus AFB AGGN

Altus OK 73523

Status: Unutilized

Comments: 167 sq. ft.; no bathroom; secured area; escort required each time to access property; asbestos; contact Air Force for more info.

South Carolina

2 Building Property Number: 18201320054

Shaw AFB

Sumter SC 29152

Location: 1036, 1826

Status: Unutilized

Comments: off-site removal only; no AF future need; sf. varies; poor conditions; secured area, contact AF for more info.

4 Buildings Property Number: 18201320055

Shaw AFB

Sumter SC 29152

Location: 1027, 1028, 2451, 1034

Status: Underutilized

Comments: off-site removal only; no AF future need; sf. varies; poor conditions; secured area; contact AF for more info.

Building 1036 Property Number: 18201320086

311 Avocet Street, Street, Shaw AFB

Sumter SC 29152

Status: Unutilized

Comments: off-site removal only; no future agency need; 1,694 sf.; open storage for auto hobby shop; repairs needed; secured area; contact AF for more info.

Building 1826 Property Number: 18201320087

100 Shaw Dr., Shaw AFB

Sumter SC 29152

Status: Unutilized

Comments: off-site removal only; no future agency need; 984 sf.; wash rack; repairs needed; secured area; contact AF for more info.

810 DKGV Property Number: 18201510017

307 E Patrol Rd.

Goose Creek SC 29445

Status: Unutilized

Comments: off-site removal only; 40+ yrs. old; 496 sq. ft.; metal structure; shelter; contact AF for more info.; no future agency need.

Land

53 Acre Parcel W Side of N Rhe Property Number: 18201520020

JB Charleston SC 29445

Status: Unutilized

Comments: 53 acres; contact AF for more information.

Building

South Dakota

9201 Property Number: 18201440033

Ellsworth AFB

9201 Lincoln

Ellsworth SD 57706

Status: Underutilized

Comments: 3,619 sq. ft.; security forces training facility; 1+ yr. vacant; very poor conditions; high noise levels; contact Air Force for more information.

Land

Texas

Fee Purchase Land—99201 Property Number: 18201540009

Eldorado AFS

Eldorado TX 76936

Status: Excess

Comments: 119 acres; 192+ months vacant; contact Air Force for more information

Building

Virginia

2 Buildings Property Number: 18201530006

JBLE (Ft. Eustis)

Ft. Eustis VA 23604

Location: 1609 (870 sq. ft.; storage); 1606 (1,076 sq. ft.; storage)

Status: Unutilized

Comments: very poor conditions; visitor's must check-in at the Ft. Eustis visitor's gate; contact AF for more details on a specific property.

2 Buildings Property Number: 18201540029

Lee Blvd.

Fort Eustis VA 23604

Location: 822 (205 sq. ft.); 876 (651 sq. ft.)

Status: Unutilized

Comments: off-site removal only; no future agency need; removal difficult due to type/condition; very poor conditions; contact Air Force for more information.

2 Buildings Property Number: 18201540030

Mulberry Island Rd.

Fort Eustis VA 23604

Location: 3511 (437 sq. ft.); 3913 (767 sq. ft.)

Status: Unutilized

Comments: off-site removal only; no future agency need; removal difficult due to type/condition; very poor conditions; contact Air Force for more information.

Land

Wyoming

11 Plots of Land Property Number: 18201540013

Diamond/Iron Mountain Rd.

Chugwater WY 82210

Location: Q-10 GHYT; Q-9 GHYS; Q-11 GHYU; Q-8 GHYR; Q-2 GHYK; Q-3 GHYL; Q-4 GHYM; Q-5 GHYN; P-11 GHYH; P-10 GHYG; P-9 GHYF

Status: Unutilized

Comments: 1 acre each; contact Air Force for more information on a specific plot of land

9 Plots of Land Property Number: 18201540014

Air Force

Lagrange/Chugwater WY 82221

Location: R-02 GHYW; R-04 GHWX; R-05 GHYZ; R-06 GHZA; R-07 GHZA; R-08 GHZC; R-09 GHZD; R-10 GHZE; R-11 GHZF

Status: Unutilized

Comments: 1 acre each; contact Air Force for more information on a specific plot of land.

2 Plots of Land Property Number: 18201540015

Hillsdale

Hillsdale WY 82060

Location: P-5 GHYB; P-7 GHYD

Status: Unutilized

Comments: 1 acre each; contact Air Force for more information on a specific plot of land.

Q-7 GHYQ Property Number: 18201540016

1603 Rd. 237

Carpenter WY 82054

Status: Unutilized

Comments: 1 acre; contact Air Force for more information.

3 Plots of Land Property Number: 18201540017

Meriden

Meriden WY 82081

Location: P-6 GHYC; P-Z GHXY; P-3 GHYZ

Status: Unutilized

Comments: 1 acre each; contact Air Force for more information on a specific plot of land.

Q-6 GHYP and P-8 GHYE Property Number: 18201540018

1381 Rd. 228

Cheyenne WY 82002

Status: Unutilized

Comments: 1 acre each; contact Air Force for more information on a specific plot of land.

2 Plots of Land Property Number: 18201540019

Air Force

Huntley WY 82218

Location: S-4 GHZK; S-5 GHZL

Status: Unutilized

Comments: 1 acre each; contact Air Force for more information on a specific plot of land.

S-2 GHZG Property Number: 18201540020

6291 Rd. 47

Torrington WY 82240

Status: Unutilized

Comments: 1 acre; contact Air Force for more information.

3 Plots of Land Property Number: 18201540021

Air Force

Hawk Springs WY 82217

Location: S-8 GHZP; S-7 GHZN; S-6 GHZM

Status: Unutilized

Comments: 1 acre each; contact Air Force for more information on a specific plot of land.

2 Plots of Land Property Number: 18201540022

Deer Creek Dr.

Wheatland WY 82201

Location: T-2 GHZU; T-3 GHZV

Status: Unutilized

Comments: 1 acre each; contact Air Force for more information on a specific plot of land.

2 Plots of Land Property Number: 18201540023

Dickerson Rd.

Bordeaux WY 82201

Location: T-4 GHZW; T-9 GJAB

Status: Unutilized

Comments: 1 acre each; contact Air Force for more information on a specific plot of land.

T-5 GHZX and T-6 GHZY Property Number: 18201540024

387 Slater Rd.

Slater WY 82201

Status: Unutilized

Comments: 1 acre each; contact Air Force for more information on a specific plot of land.

2 Plots of Land Property Number: 18201540025

Slater Rd.

Slater WY 82201

Location: T-7 GHZZ; T-8 GJAA

Status: Unutilized

Comments: 1 acre each; contact Air Force for more information on a specific plot of land.

2 Plots of Land Property Number: 18201540026

Snook/Grayrocks Rd.

Wheatland WY 82201

Location: T-10 GJAC; T-11 GJAD

Status: Unutilized

Comments: 1 acre each; contact Air Force for more information on a specific plot of land.

2 Plots of Land Property Number: 18201540027

State Hwy

Veteran WY 82243

Location: S-10 GHZR; S-11 GHZS

Status: Unutilized

Comments: 1 acre each; contact Air Force for more information on a specific plot of land.

2 Plots of Land Property Number: 18201540028

ST STE Hwy

Yoder WY 82244

Location: S-3 GHZJ; S-9 GHEQ

Status: Unutilized

Comments: 1 acre each; contact Air Force for more information on a specific plot of land.

ARMY

Building

Alabama

C1301 Property Number: 21201220017

Ft. McClellan

Ft. McClellan AL 36205

Status: Excess

Comments: off-site removal only; 2,232 sf.; barracks; extensive repairs needed; secured area; need prior approval to access property.

11 Buildings Property Number: 21201340002

Redstone Arsenal

Redstone Arsenal AL 35898

Location: 4469, 7328, 7352A, 7352B, 7353A, 7635, 7668A, 7688A, 7902, 7908 (Please Note: 7352A, 7352B, and 7688A are SUITABLE/UNAVAILABLE)

Status: Unutilized

Comments: off-site removal only; no future agency need; sq. ft. varies; major repairs needed; secured area; contact Army for more info. on a specific property & accessibility reqs.

4 Buildings Property Number: 21201410026

Redstone Arsenal

Redstone Arsenal AL 35898

Location: 3535 (150 sq. ft.); 3538 (48 sq. ft.); 4637 (2,095 sq. ft.); 7330 (75 sq. ft.)

Status: Unutilized

Comments: off-site removal only; no future agency need; repairs needed; secured area; contact Army for more information.

5 Buildings Property Number: 21201420016

Redstone Arsenal

Redstone Arsenal AL 35898

Location: 7742A; 7742B; 7740A; 7740B; 7740

Status: Unutilized

Comments: Off-site removal only; must be dismantled; no future agency need; extensive repairs required; contact Army for more info. on a specific property & accessibility/removal reqs.

4811 Property Number: 21201430024

Redstone Arsenal

Redstone Arsenal AL 35898

Location: 4811

Status: Unutilized

Comments: off-site removal only; no future agency need; 221 sq. ft.; Flammable/explosive storage facility; 12+ months vacant; deteriorated; secured area; contact Army for more nformation.

6 Buildings Property Number: 21201510040

Redstone Arsenal

Madison AL 35898

Location: 3757 (800 sq. ft.); 3759 (39 sq. ft.); 3762 (288 sq. ft.); 6209 (130 sq. ft.); 6210 (130 sq. ft.); 7859 (522 sq. ft.)

Status: Unutilized

Comments: off-site removal only; no future agency need; prior approval to gain access is required; for more info. contact Army.

2 Buildings Property Number: 21201530058

Redstone Arsenal

Redstone Arsenal AL 35898

Location: Building 7359 (4,547 sq. ft.); 7369 (7,288 sq. ft.)

Status: Unutilized

Comments: off-site removal; 48-70+ yrs. old; rocket plants; vacant 4 mos.; major reno. needed; contaminates; asbestos; no future agency need; prior approval needed to gain access; contact Army for more infor.

Building 3540 Property Number: 21201530092

Redstone Arsenal

Redstone Arsenal AL 35898

Status: Unutilized

Comments: off-site removal only; no future agency need;150 sq. ft.; range support; removal may be difficult due to type (brick); major renov.; LBPs; endangered species- var. bat species; contact Army for more info.

2 Buildings Property Number: 21201540030

Fort Rucker

Fort Rucker AL 36362

Location: 25107- RPUID: 576526 (2,721 SQ. FT.; Airfield Fire and Rescue Facility); 30305-RPUID: 250776 (4,422 SQ. FT.; Ready Bldg.)

Status: Underutilized

Comments: off-site removal only; no future agency need; removal extremely difficult due to type/size; fair conditions; contact Army for more information on a specific property listed above.

60110 Property Number: 21201540032

SHELL AF, FORT RUCKER

Ft. Rucker AL 36330

Status: Underutilized

Comments: off-site removal only; no future agency need; extremely difficult to remove due to type/size; 8,319 SQ. FT.; ADMIN GEN PURP; 50% is occupied; poor conditions; contact Army for more information.

Alaska

Bldg. 00001 Property Number: 21200710051

Holy Cross Armory

High Cross AK 99602

Status: Excess

Comments: 1200 sq. ft. armory, off-site use only.

Building 00001 Property Number: 21201320038

9679 Tuluksak Rd.

Toksook AK 99679

Status: Excess

Comments: 1,200 sf.; armory; 60 months vacant; poor conditions.

Building 00001 Property Number: 21201330030

Lot 7 Block 11 US Survey 5069

Noorvik AK 99763

Status: Excess

Comments: 1,200 sf. armory; 60+months vacant; poor conditions; contact Army for more info.

Building 00001 Property Number: 21201330031

P.O. Box 22

Gambell AK 99742

Status: Excess

Comments: 1,208 sf.; armory; 60+ months vacant; poor conditions; contact Army for more info.

Building 0001 Property Number: 21201330032

Kivalina Armory

Kivalina AK 99750

Status: Excess

Comments: 1,200 sf. armory; 600+months vacant; poor conditions; contact Army for more info.

Akiachak 00001 Property Number: 21201330033

500 Philips St.

Akiachak AK 99551

Status: Excess

Comments: 1,200 sf.; armory; 60+ months vacant; poor conditions; contact Army for more info.

Arizona

Building 90890 Property Number: 21201440051

Fort Huachuca

Fort Huachuca AZ 85613

Status: Unutilized

Comments: off-site removal only; no future agency need; 40 sq. ft.; 80+ months vacant; repairs needed; contact Army for more information.

7 Buildings Property Number: 21201510025

Papago Park Military Reservation

Phoenix AZ 85008

Location: M5358 (1500 sq. ft.); M5356 (1,500 sq. ft.) M5354 (1,500 sq. ft.); M5352 (1,500 sq. ft.); M5218 (1,097 sq. ft.); M5331 (2,460 sq. ft.); M5502 (5,856 sq. ft.)

Status: Excess

Comments: Fair condition prior approve to gain access is required, for more information contact Army about a specific property.

2 Building Property Number: 21201520007

5636 E. McDowell Road

Phoenix AZ 85008

Location: Building M5502 (5,856 sq. ft.) & M5331 (2,460 sq. ft.)

Status: Excess

Comments: 45+ & 62 +yrs. old for buildings respectively above; administration; restricted access; escort required; contact Army for more information.

California

Bldgs. 18026, 18028 Property Number: 21200130081

Camp Roberts

Monterey CA 93451-5000

Status: Excess

Comments: 2024 sq. ft. sq. ft., concrete, poor condition, off-site use only.

1201T Property Number: 21201310060

Tower Rd.

Dubin CA 94568

Status: Unutilized

Comments: off-site removal only; 30 sf.; control tower; poor conditions; restricted area; transferee must obtain real estate doc. to access/remove; contact Army for more info.

1201S & 1205S Property Number: 21201310062

Tower Rd.

Dublin CA 94568

Location: previously reported under 21201010006

Status: Unutilized

Comments: REDETERMINATION: off-site removal only; 396 & 252 sf. repetitively; storage; poor conditions; transferee will need to obtain real estate doc. to access/remove property; contact Army for more info.

2 Building Property Number: 21201330002

Parks Reserve Forces Training Area

Dublin CA 94568

Location: 1108, 1109

Status: Underutilized

Comments: off-site removal only; no future agency need; sf. varies; poor conditions; secured area; contact Army for info. on a specific property & accessibility removal reason.

7 Building Property Number: 21201330003

Parks Reserve Forces Training Area

Dublin CA 94568

Location: 200, 00974, 1080, 1085, 1100, 1101, 1176

Status: Unutilized

Comments: sf varies; no future agency need; poor/deteriorated conditions; secured area; escort required; contact Army for more info. on a specific property & accessibility reqs./removal options.

Building 4230 Property Number: 21201330007

Ord Military Community

Seaside CA 93955

Location: 4230

Status: Unutilized

Comments: 15,908 sf.; theater; vacant since 2000; 43 yes. old; mold; lead-based paint; asbestos; contact Army for more info.

Building 4230 Property Number: 21201330010

Ord Military Community

Seaside CA 93955

Location: 4230

Status: Unutilized

Comments: 15,908 sf.; theater; vacant since 2000; 43 yes. old; mold; lead-based paint; asbestos; contact Army for more info.

11 Building Property Number: 21201330018

Fort Hunter Liggett

FF Hunter Liggett CA 93928

Location: 0100A, 0178B, 00306, 00408, 0418A, 00850, 00851, 00932, 00945, 00946, 00947

Status: Unutilized

Comments: off-site removal only; no future agency need; St. varies, conditions range from good to dilapidated secured area, contact Army for more info. on a specific property & accessibility/removal reqs.

22 Buildings Property Number: 21201330019

Hwy. 101, Bldg. 109

Camp Roberts CA 93451

Location: 00902, 00936, 01019, 06079, 06080, 06125, 06320, 14212, 14308, 14801, 25012, 25013, 27108, 27110, 27126, RB001, RB003, RB004, RB005, RB006, RB007, RB043

Status: Excess

Comments: CORRECTION: Bldg. 14801 incorrectly published on 08/30/2013; off-site removal only; 6+ months vacant; poor conditions; contamination; secured area; contact Army for info.

11 Building Property Number: 21201330023

Fort Hunter Liggett

Fort Hunger Liggett CA 93928

Location: 0100A, 0178B, 00306, 00408, 0418A, 00850, 00851, 00932, 00945, 00946, 00947

Status: Unutilized

Comments: off-site removal only; no future agency need; St. varies, conditions range from good to dilapidated secured area, contact Army for more info. on a specific property & accessibility/removal reqs.

23 Buildings Property Number: 21201330025

Hwy 101, Bldg. 109

Camp Robert CA 93451

Location: T0805, T0831, T0834, T0874, T0876, T0917, T0920, T0922, T0923, T0925, T0933, T0934, T0935, T0955, T0956, T0955, T0956, T0966, T0967, T0992, T6005, T6029, T6406, T7025, T7037

Status: Excess

Comments: off-site removal only; sf varies; 6t months vacant; poor conditions; contamination; secured area; contact Army for more info. on a specific property & accessibility removal reqs.

11 Building Property Number: 21201330026

Fort Hunter Liggett

Fort Hunter Ligget CA 93928

Location: 0100A, 0178B, 00306, 00408, 0418A, 00850, 00851, 00932, 00945, 00946, 00947

Status: Unutilized

Comments: off-site removal only; no future agency need; St. varies, conditions range from good to dilapidated secured area, contact Army for more info. on a specific property & accessibility/removal reqs.

7 Buildings Property Number: 21201330067

Sierra Army Depot

Herlong CA 96113

Location: 00478, 00548, 00681, 00682, 00683, 00684, and 00685

Status: Unutilized

Comments: Sf. varies, 36-204+ months vacant; fair to deteriorated; secured area; extensive background check required; contact Army for info. on a specific property & accessibility reqs.

2 Buildings Property Number: 21201410024

Camp Roberts MTC

Camp Roberts CA 93451

Location: 14102 (864 sq. ft.); 14801 (200 sq. ft.)

Status: Excess

Comments: off-site removal only; 72+ yrs. old; secured area; contact Army for accessibility/removal requirements.

4 Buildings Property Number: 21201420004

Fort Hunter Liggett

711 ASP Road

Fort Hunter Liggett CA 93928

Location: 711; 710; 0408A; 719

Status: Unutilized

Comments: off-site removal only; no future agency need; poor conditions; must obtain access documentation; contact Army for information on a specific property and accessibility/removal request.

Bldg. 53 Property Number: 21201430003

Navy Lodge on RT Jones Rd.

Mountain View CA

Status: Excess

Comments: off-site removal only; 960 sq. ft.; storage; poor conditions; contact Army for more information.

00294 Property Number: 21201430018

Los Alamitos Joint Forces Training Base (JFTB

Los Alamitos CA 90720-5002

Location: 00294

Status: Underutilized

Comments: off-site removal only; no future agency need; 980 sq. ft.; storage/general purpose; very poor condition; secured area; contact Army for more information.

Building 37 Property Number: 21201510007

Defense Distribution

San Joaquin CA 95304

Status: Excess

Comments: off-site removal only; 200 sq. ft.; shipping office; age: 2013; fair/good conditions; asbestos/lead; contact Army for more information.

Camp Roberts MTC (H) Bldg. Property Number: 21201510028

# T0864

Hwy 101; Bldg. 109

Camp Roberts CA 93451-5000

Status: Unutilized

Comments: off-site removal; 73+ yrs. old; 400 sq. ft. storage; residential; fair to poor condition; vacant 72 months; contact Army for more info.

3 Buildings Property Number: 21201530048

Park Reserve Forces Training Area

Dubin CA 94568

Location: Building: 973 RPUID: 376805 (1,933 sq. ft.); 1194 RPUID: 377058 (1,020 sq. ft.); 1195 RPUID: 377059 (1,020 sq. ft.)

Status: Unutilized

Comments: off-site removal only; no future agency need; 61/71+ yrs. old; Vacant Storage; recreation center; poor condition; contact Army for more info. on a specific property accessibility/removal requirements.

6 Buildings Property Number: 21201530049

Fort Hunter Liggett

Fort Hunter Liggett CA 93928

Location: Building: 0100B (124 sq. ft.); 124 (2,001 sq. ft.); 149 (1,196 sq. ft.); 283 (4,225 sq. ft.) 393 (58 sq. ft.); 394 (58 sq. ft.)

Status: Unutilized

Comments: off-site removal only; no future agency need; 35/86+ yrs. old; usage varies; contact Army for more info. on a specific property; access/removal requirements.

Building 0132A Property Number: 21201530050

Fort Hunter Liggett

For Hunter Liggett CA 93928

Status: Underutilized

Comments: off-site removal; no future agency need; 64+ yrs. old; 943 sq. ft.; residential; poor condition; contact Army for more information and accessibility/removal requirements.

Colorado

Building 00209 Property Number: 21201520018

4809 Tevis Street

Fort Carson CO 80913

Status: Unutilized

Comments: off-site removal; 49+ yrs. old; 400 sq. ft.; housing; vacant 3 mos.; repairs required; asbestos; no future agency need; contact Army for more information.

Building 00220 Property Number: 21201520033

4860 Tevis Street

Fort Carson CO 80913

Status: Excess

Comments: off-site removal only; 73+ yrs. old; 690 sq. ft.; Eng./housing; repairs required; concrete; may be difficult to move; asbestos; no future agency need; contact Army for more information.

Georgia

Building 904 Property Number: 21201310004

2022 Veterans Pkwy

Ft. Stewart GA 31314

Status: Excess

Comments: off-site removal only; 9,993 sf.; museum; poor conditions; asbestos & lead-based paint; w/in secured area; Gov't escort required to access/remove property.

Building 862 Property Number: 21201310010

259 N. Lightening Rd.

Hunter Army Airfield GA 31409

Status: Excess

Comments: off-site removal only; 826 sf.; Battery Shop; poor conditions; w/in secured area; contact Army for info. on accessibility/removal reqs.

Building 853 Property Number: 21201310011

140 Barren Loop Rd.

Hunter Army Airfield GA 31409

Status: Excess

Comments: off-site removal only; 4,100 sf.; Admin. 3 mons. vacant; fair conditions; w/in secured area; contact Army for accessibility/removal reqs.

Building 866 Property Number: 21201310012

395 N. Lightening Rd.

Hunter Army Airfield GA 31409

Status: Excess

Comments: off-site removal only; 2,100 sf.; Admin.; fair conditions; w/in secured area; contact Army for info. on accessibility/removal reqs.

Building 9597 Property Number: 21201310013

Bultman Ave.

Ft. Stewart GA 31314

Status: Excess

Comments: off-site removal only; 324 sf.; storage; 6 mons. vacant; poor conditions; w/in secured area; Gov't escort only to access/remove property.

Building 8056 Property Number: 21201310015

N. Lightening Rd.

Hunter Army Airfield GA 31409

Status: Excess

Comments: off-site removal only; 3,790 sf.; navigation bldg.; 10 mons. vacant; fair conditions; asbestos; w/in secured area; Gov't escort only to access/remove property.

Buildings 7736 & 7740 Property Number: 21201310016

Chip Rd.

Ft. Stewart GA 31314

Status: Excess

Comments: off-site removal only; sf. varies; poor conditions; w/in secured area; Gov't escort only to access/remove property.

3 Buildings Property Number: 21201310017

McFarland Ave.

Ft. Stewart GA 31314

Location: 1710, 1711, 1712

Status: Excess

Comments: off-site removal only; sf. varies; poor conditions; w/in secured area; Gov't escort only to access/remove property.

Buildings 1303 & 1304 Property Number: 21201310018

Warrior Rd.

Ft. Stewart GA 31314

Status: Excess

Comments: off-site removal only; sf. varies; poor conditions; w/in secured area; Gov't escort only to access/remove property.

Building 1155 & 1156 Property Number: 21201310019

N. Lightening Rd.

Hunter Army Airfield GA 31409

Status: Excess

Comments: off-site removal only; sf. varies; poor conditions; w/in secured area; Gov't escort only to access/remove property.

Buildings 1139 & 1151 Property Number: 21201310020

Veterans Pkwy

Ft. Stewart GA 31314

Status: Excess

Comments: off-site removal only; sf. varies; poor conditions; w/in secured area; Gov't escort only to access/remove property.

Building 1104 Property Number: 21201310022

Frank Cochran Dr.

Hinesville GA 31314

Status: Excess

Comments: off-site removal only; 240 sf.; storage; poor conditions; w/in secured area; Gov't escort required to access/remove property.

Building 1105 Property Number: 21201310023

Veterans Pkwy

Ft. Stewart GA 31314

Status: Excess

Comments: off-site removal only; 7,132 sf.; Maint. Facility; poor conditions; asbestos & lead; w/in secured area; Gov't escort required to access/remove property.

Building 1130 Property Number: 21201310024

Veterans Pkwy

Ft. Stewart GA 31314

Status: Excess

Comments: off-site removal only; 322 sf.; storage; poor conditions; w/in secured area; Gov't escort only to access/remove property.

Building 1132 Property Number: 21201310025

Veterans Pkwy

Ft. Stewart GA 31314

Status: Excess

Comments: off-site removal only; 182 sf.; latrine; poor conditions; w/in secured area; Gov't escort only to access/remove property.

Building 1133 Property Number: 21201310026

Veterans Pkwy

Ft. Stewart GA 31314

Status: Excess

Comments: off-site removal only; 501 sf.; latrine; poor conditions; w/in secured area; Gov't escort only to access/remove property.

Building OT022 Property Number: 21201330005

46 22nd Street

Fort Gordon GA 30905

Status: Unutilized

Comments: No future agency need; Off-site removal only; 960 sf.; classroom; 120 months; dilapidated; contamination; closed post; contact Army for accessibility/removal requirements.

Building OT007 Property Number: 21201330006

31 22nd Street

Fort Gordon GA 30905

Status: Unutilized

Comments: off-site removal only; no future agency need; 960 sf.; classroom; 120t months; dilapidated; contamination; closed post; contact Army for accessibility/removal reqs.

3 Buildings Property Number: 21201330036

Veterans Pkwy.

Fort Stewart GA 31314

Location: 1101, 1108, 1129

Status: Excess

Comments: off-site removal only; poor conditions; contamination; secured area; contact Army for info. on a specific property; accessibility removal reqs.

Building 00TR4 Property Number: 21201330045

43 Pistol Range Road

Whitfield GA 30755

Status: Excess

Comments: off-site removal only; 2,560 sf.; dining facility; 78 yrs. old; poor conditions; contact Army for more info.

Building 1157 Property Number: 21201410033

Hunter Army Airfield

Hunter Army Airfield GA 31409

Status: Excess

Comments: off-site removal only; 5,809 sq. ft.; poor conditions; secured area; gov't escort required; contact Army for more info.

Building 7097 Property Number: 21201440007

Fort Stewart

Ft. Stewart GA 31314

Status: Underutilized

Comments: off-site removal only; no future agency need; relocation difficult due to size/type; 9,520 sq. ft.; child development center; 6+ months vacant; poor conditions; contact Army for more information.

100 Property Number: 21201440008

Hunter Army Airfield

Hunter Army Airfield GA 31409

Status: Excess

Comments: off-site removal only; relocation extremely difficult due to size; 13,331 sq. ft.; classroom; poor conditions; contact Army for more information.

1020 Property Number: 21201440009

Hunter Army Airfield

Hunter Army Airfield GA 31409

Status: Underutilized

Comments: off-site removal only; no future agency need; relocation extremely difficult due to size/type; 39,653 sq.; storage; 1+ month vacant; contact Army for more information.

9002 Property Number: 21201440010

Hunter Army Airfield

Hunter Army Airfield GA 31406

Status: Underutilized

Comments: off-site removal only; no future agency need; relocation difficult due to type; 221 sq. ft.; 12+ months vacant; poor conditions; asbestos; contact Army for more information.

10 Buildings Property Number: 21201520011

Fort Benning

Fort Benning GA 31905

Location: 00035 (890 sq. ft.); 00036 (890 sq. ft.); 00235 (4,390 sq. ft.); 08001 (288 sq. ft.); 08007 (288 sq. ft.); 08012 (288 sq. ft.); 08014 (288 sq. ft.); 08034 (192 sq. ft.); 08582 (192 sq. ft.); 08597 (192 sq. ft.)

Status: Underutilized

Comments: off-site removal; 10-94 yrs. old for buildings respectively above; toilet/shower; laundry; administrative; poor condition; no future agency need; contact Army for more information.

9 Buildings Property Number: 21201520012

Fort Benning

Fort Bebbing GA 31905

Location: 08821 (192 sq. ft.), 8781 (1,007 sq. ft.), 08730 (800 sq. ft.), 08729 (192 sq. ft.), 08721 (384 sq. ft.), 08681 (192 sq. ft.), 08637 (384 sq. ft.), 08600 (192 sq. ft.), 08618 (192 sq. ft.)

Status: Underutilized

Comments: off-site removal; 10-50 yrs. old for buildings respectively above; poor condition; toilet/shower, range; no future agency need; contact Army for more information.

2 Buildings Property Number: 21201520028

Fort Benning

Fort Benning GA 31905

Location: Buildings 04969 (8,416 sq. ft.), 04960 (3,335 sq. ft.)

Status: Unutilized

Comments: off-site removal; 34+ & 48+ yrs. old; vehicle MAINT.; poor conditions; contaminants; restricted access; no future agency need; contact Army for more information.

Building 14 Property Number: 21201540052

Camp Frank D. Merrill

Fort Benning GA 31905

Status: Unutilized

Comments: off-site removal only; 120 sq. ft.; 51+ yrs. old; veh. fuel mogas; poor conditions; contact Army for information.

Building 08638-RPUID 283107 Property Number: 21201540053

Mortar Training Area

off Wildcat Road

Fort Benning GA 31905

Status: Unutilized

Comments: off-site removal only; 192 sq. ft.; 10+ yrs.-old; sep toil/shower; poor conditions; contact Army for more information.

Building 08728 Property Number: 21201540054

3279 10th Armored Division Road

Fort Benning GA

Status: Unutilized

Comments: off-site removal only; 192 sq. ft.; 9+ yrs.-old; sep toil/shower; poor conditions; contact Army for more information.

Hawaii

P-88 Property Number: 21199030324

Aliamanu Military Reservation

Honolulu Co: Honolulu HI 96818

Location: Approximately 600 feet from Main Gate on Aliamanu Drive.

Status: Unutilized

Comments: 45,216 sq. ft. underground tunnel complex, pres. of asbestos clean-up required of contamination, use of respirator required by those entering property, use limitations.

3377Z Property Number: 21201210054

Schofield Barracks

Wahiawa HI 96786

Status: Unutilized

Comments: off-site removal only; 196 sf.; current use: transformer bldg.; poor conditions—needs repairs.

Bldg. 0300B Property Number: 21201210083

308 Paalaa Uka Pupukea

Wahiawa Co: Honolulu HI 96786

Status: Unutilized

Comments: off-site removal only; 114 sf.; current use: valve house for water tank; fair conditions.

12 Bldgs. Property Number: 21201220009

Schofield Barracks

Wahiawa HI

Location: 2509, 2510, 2511, 2512, 2513, 2514, 2516, 2517, 3030, 3031, 3032, 3035

Status: Unutilized

Comments: off-site removal only; sf. varies; usage varies; storage; good conditions.

A0300 Property Number: 21201230009

308 Paalaa Uka Pupukea Rd.

Helemano

Wahiawa HI 96786

Status: Unutilized

Comments: off-site removal only; 17.25 x 21ft.; water storage.

Buildings 1421 & 1422 Property Number: 21201310046

510 CW2 Latchum Rd.

Wahiawa HI 97686

Status: Underutilized

Comments: off-site removal only; sf. varies; office & toilet; fair conditions; military reservation.

Buildings 3363, 3366, & 3371 Property Number: 21201310047

Schofield Barracks

Wahiawa HI 96786

Status: Unutilized

Comments: off-site removal only; sf. varies; abandoned; 230 mons. vacant; transformer bldgs.

Building A0750 Property Number: 21201330038

613 Ayers Ave. (Schofield Barracks)

Wahiawa HI 96786

Status: Unutilized

Comments: off-site removal only; no future agency need; 512 sf.; storage; 46 yrs. old; poor conditions; contact Army for more info.

00038 Property Number: 21201410007

Pohakuloa Training Area

Hilo HI 96720

Status: Unutilized

Comments: off-site removal only; 102 sq. ft.; storage; 49+ yrs.-old; poor conditions; contact Army for more information.

3 Buildings Property Number: 21201530046

Joint Base Pearl Harbor Hickam

Joint Base Pearl Harbor HI 96860

Location: Building: 2266 (1,536 sq. ft.); 2267 (1,536 sq. ft.); 2268 (2,190 sq. ft.)

Status: Excess

Comments: off-site removal only; 32+ yrs. old; Child Development Centers; 24 mos. Vacant; poor condition; relocation may not be feasible due to deteriorated condition; contact Army for more information.

Idaho

R1A11 Property Number: 21201320005

16 Miles South

Boise ID 83634

Status: Excess

Comments: off-site removal only; 1,040 sf., dilapidated, repairs a must, temp. shelter, 9 months vacant, has hanta virus presence.

R1A13 Property Number: 21201320015

16 Miles South

Boise ID 83634

Status: Excess

Comments: off-site removal only; 1,040 sf.; temp. shelter; 9 months vacant; dilapidated; Hanta virus; repairs a must.

R1A10 Property Number: 21201320041

16 Miles South

Boise ID 83634

Status: Excess

Comments: off-site removal only; 1,040 sf.; dilapidated; repairs a must; 9 months vacant; Hanta virus.

R1A12 Property Number: 21201320042

16 Miles South

Boise ID 83634

Status: Excess

Comments: off-site removal only; 1,040 sf.; temp. shelter; 9 months vacant; dilapidated; repairs a must; Hanta virus.

R1A15 Property Number: 21201320043

16 Miles South

Boise ID 83634

Status: Excess

Comments: off-site removal only; 1,040 sf.; temp. shelter; 9 months vacant; dilapidated; Hanta virus; repair a must.

Iowa

Y11Q0 Property Number: 21201330060

Camp Dodge

Johnston IA 50131

Status: Unutilized

Comments: 3,076 sf.; family housing; 816+ months vacant; deteriorated; secured area; escort required; contact Army for accessibility requirements.

2 Buildings Property Number: 21201330064

Camp Dodge

Johnston IA 50131

Location: Y1200 & TC030

Status: Unutilized

Comments: 1,686 & 1,026 sf. respectively; garage; deteriorated; secured area; escort required; contact Army for accessibility requirements.

Kansas

Building 9109 Property Number: 21201310051

Mallon Rd.

Ft. Riley KS 66442

Status: Unutilized

Comments: off-site removal only; 128 sf.; latrine; deteriorating conditions; located on controlled area; contact Army for more info.

Building 00620 Property Number: 21201320014

Mitchell Terr.

Ft. Riley KS 66442

Status: Excess

Comments: off-site removal only; 12,640 sf.; lodging; deteriorating; asbestos.

Building 09098 Property Number: 21201320016

Vinton School Rd.

Ft. Riley KS 66442

Status: Excess

Comments: off-site removal only; 120 sf.; guard shack; fair/moderate conditions.

Building 07856 Property Number: 21201320017

Drum St.

Ft. Riley KS 66442

Status: Excess

Comments: off-site removal only; 13,493 sf.; dining facility; deteriorating; asbestos.

Building 07636 Property Number: 21201320018

Normandy Dr.

Ft. Riley KS 66442

Status: Excess

Comments: off-site removal only; 9,850 sf.; deteriorating; asbestos.

Building 05309 Property Number: 21201320019

Ewell St.

Ft. Riley KS 66442

Status: Excess

Comments: off-site removal only; 23,784 sf.; lodging; deteriorating; asbestos.

Building 00918 Property Number: 21201320020

Caisson Hill Rd.

Ft. Riley KS 66442

Status: Excess

Comments: off-site removal only; 3,536 sf.; admin. general purpose; deteriorating; possible contamination; secured area; however, prior approval to access is needed; contact Army for more info.

Building 00621 Property Number: 21201320021

Mitchell Terr.

Ft. Riley KS 66442

Status: Excess

Comments: off-site removal only; 12,640 sf.; lodging; deteriorating; asbestos.

Building 7610 Property Number: 21201410049

Fort Riley

Fort Riley KS 66442

Status: Excess

Comments: off-site removal only; may not be feasible to relocate due to sq. ft./type of structure; 41,892 sq. ft. barracks; contact Army for more information.

8 Buildings Property Number: 21201420002

Fort Riley

610 Warrior Rd.

Fort Riley KS 66442

Location: 610, 7610, 7614,7616, 7842, 7846, 7850, 8063

Status: Excess

Comments: off-site removal only; major repairs needed, mold and asbestos; secured area; contact Army for information on a specific property and accessibility/removal request.

502 Property Number: 21201430009

Fort Riley

Fort Riley KS 66442

Location: 502

Status: Excess

Comments: off-site removal only; 316 sq. ft.; office; structure type: Police Station; 55+ years old; fair condition; contact Army for more information.

Kentucky

Fort Knox Property Number: 21201110011

Eisenhower Avenue

Fort Knox KY 40121

Location: Bldgs.: 06559, 06571, 06575, 06583, 06584, 06585, 06586

Status: Unutilized

Comments: off-site removal only; multiple bldgs. w/various sq. footage (2,578-8,440 sq. ft.), current use varies (classroom—dental clinic), lead base paint, asbestos & mold identified.

Fort Knox, 10 Bldgs. Property Number: 21201110012

Bacher Street

2nd Dragoons Rd & Abel St

Fort Knox KY 40121

Location: Bldgs.: 06547, 06548, 06549, 06550, 06551, 06552, 06553, 06554, 06557, 06558

Status: Unutilized

Comments: off-site removal only, multiple bldgs. w/various sq. footage (8,527-41,631 sq. ft.) lead base paint, asbestos & mold identified in all bldgs. Current use varies.

Fort Knox, 10 Bldgs. Property Number: 21201110015

Eisenhower Ave

Fort Knox KY 40121

Location: Bldgs.: 06535, 06536, 06537, 06539, 06540, 06541, 06542, 06544, 06545, 06546

Status: Unutilized

Comments: off-site removal only, multiple bldgs. w/various sq. ft. (2,510-78,436 sq. ft.) lead base paint, asbestos & mold has been identified in all bldgs. Current use varies.

11 Bldgs. Property Number: 21201140002

Ft. Knox

Ft. Knox KY 40121

Location: 02422, 02423, 02424, 02425, 02956, 02960, 00173, 02197, 02200, 00097, 00098

Status: Unutilized

Comments: off-site removal only; possible lead based paint, asbestos, and mold in all bldgs.; sq. ft. varies; current use: office.

5 Bldgs. Property Number: 21201140003

Ft. Knox

Ft. Knox KY 40121

Location: 02317, 02323, 02324, 02349, 02421

Status: Unutilized

Comments: off-site removal only; possible lead base paint, asbestos, and mold; sq. ft. varies; current use: office.

10 Bldgs. Property Number: 21201140016

Ft. Knox

Ft. Knox KY 40121

Location: 120, 161, 166, 171, 101, 114, 115, 116, 117, 1196

Status: Unutilized

Comments: off-site removal only; sq. ft. varies; current use: office space to storage; possible asbestos and mold.

18 Bldgs. Property Number: 21201140032

Ft. Knox

Ft. Knox KY 40121

Location: 51, 52, 70, 73, 74, 76, 2961, 2963, 2964, 2969, 2970, 2971, 2972, 2973, 2974, 2975, 2979, 2316

Status: Unutilized

Comments: off-site removal only; possible asbestos, mold, and lead base paint; sq. ft. varies; current use: office.

Bldg. 2980 Property Number: 21201140078

Ft. Knox

Ft. Knox KY 40121

Status: Unutilized

Comments: off-site removal only; 6,900 sq. ft.; current use: office; possible asbestos and mold.

Bldg. 1197 Property Number: 21201140079

Ft. Knox

Ft. Knox KY 40121

Status: Unutilized

Comments: off-site removal only; 2,969 sq. ft.; current use: office; possible lead base paint, asbestos, and mold.

23 Bldgs. Property Number: 21201210034

Ft. Knox

Ft. Knox KY 40121

Location: 6097, 6098, 6099, 6113, 6114, 6115, 6116, 6118, 6120, 6121, 6123, 6124, 6614, 6615, 6616, 7107, 9209, 9215, 9231, 9254, 9256, 9361, 9619

Status: Unutilized

Comments: off-site removal only; sq. ft. varies, current use: varies; poor conditions- need repairs; lead, mold, and asbestos identified.

20 Bldgs. Property Number: 21201210035

Ft. Knox

Ft. Knox KY 40121

Location: 45, 46, 64, 75, 79, 107, 114, 155, 202, 205, 299, 1373, 1997, 2319, 2350, 3007, 6033, 6034, 6035, 6036

Status: Unutilized

Comments: off-site removal only; sq. ft. varies, current use: varies; poor conditions- need repairs; lead, mold, and asbestos identified.

5 Bldgs. Property Number: 21201210036

Ft. Knox

Ft. Knox KY 40121

Location: 6038, 6039, 6040, 6093, 6094

Status: Unutilized

Comments: off-site removal only; sq. ft. varies, current use: varies; poor conditions- need repairs; lead, mold, and asbestos identified.

22 Bldgs. Property Number: 21201220020

Ft. Knox

Ft. Knox KY 40121

Location: 79, 204, 1610, 1996, 2955, 2959, 2965, 2980, 2991, 6531, 6533, 6560, 6561, 6563, 6564, 6565, 6566, 6592, 6594, 9183, 9319, 9320

Status: Unutilized

Comments: off-site removal only; sf varies; usage varies; need repairs; lead and asbestos identified; need remediation.

15 Buildings Property Number: 21201230030

Ft. Knox

Ft. Knox KY 40121

Location: 2991, 3006, 6127, 7345, 7346, 9254, 9264, 9294, 9302, 9311, 9315, 9335, 9427, 9503, 9504

Status: Unutilized

Comments: use: maintenance; extremely poor conditions; contamination identified; contact Army for further details & accessibility requirements.

10 Buildings Property Number: 21201230031

Ft. Knox

Ft. Knox KY 40121

Location: 9505, 9506, 9507, 9508, 9509, 9617, 9675, 9681, 9706, 9707

Status: Unutilized

Comments: sf. varies; extremely poor conditions; contamination identified; contact Army for further details & accessibility requirements.

Building A7140 Property Number: 21201530102

Fort Campbell

Ft. Campbell KY 42223

Status: Underutilized

Comments: 414 sq. ft.; 56+ yrs.-old; fair conditions; registration required on daily basis to access property; contact Army for more information.

Louisiana

B-8248 Property Number: 21201210069

Ft. Polk

Ft. Polk LA 71459

Status: Underutilized

Comments: 3,141 sf.; current use: Admin. Bldg.; poor conditions-need repairs.

B-8401 Property Number: 21201210070

Ft. Polk

Ft. Polk LA 71459

Status: Underutilized

Comments: 3,141 sf.; current use: Admin. Bldg.; poor conditions-need repairs.

21 Buildings Property Number: 21201230034

Polk

Ft. Polk LA 71459

Location: 9515, 9537, 9554, 9570, 9593, 9594, 9601, 9602, 9603, 9604, 9607, 9609, 9618, 9619, 9666, 9703, 9741, 9744, 9751, 9753, 9755

Status: Underutilized

Comments: off-site removal only; sf. varies; use: varies; poor conditions; contact Army for further details re: a specific property.

18 Buildings Property Number: 21201230035

Polk

Ft. Polk LA 71459

Location: 9764, 9765, 9773, 9793, 9794, 9797, 9803, 9812, 9818, 9830, 9836, 9837, 9840, 9854, 9913, 9914, 9917, 9920

Status: Underutilized

Comments: off-site removal only; sf. varies; use: varies; poor conditions; contact Army for further details re: a specific property.

7 Building Property Number: 21201330044

Fort Polk

Fort Polk LA 71459

Location: 00916, 03313, 03314, 03315, 3316, 3320, 3323

Status: Underutilized

Comments: off-site removal only; sf. varies; no future agency need; poor conditions; contact Army for more info. on a specific property & removal reqs.

13 Buildings Property Number: 21201330056

Fort Polk

Fort Polk LA 71459

Location: 3335, 3341, 3342, 3344, 3348, 4798, 7144, 7192, 7193, 7194, 7199, 08091, 8092

Status: Underutilized

Comments: off-site removal only; no future agency need; sf. varies; storage to picnic/rec. shelter; poor conditions; contact Army for more info. on a specific property and removal requirements.

7604B Property Number: 21201530038

Fort Polk

Fort Polk LA 71459

Status: Unutilized

Comments: off-site removal only; no future agency need; 3,740 sq. ft.; contact Army for more information.

7604C Property Number: 21201530039

Fort Polk

Fort Polk LA 71459

Status: Unutilized

Comments: off-site removal only; no future agency need; 3,740 sq. ft.; reloadable company building; contact Army for more information.

7308E Property Number: 21201530040

Fort Polk

Fort Polk LA 71459

Status: Unutilized

Comments: off-site removal only; no future agency need; 5,396 sq. ft.; reloadable office; contact Army for more information.

7604D Property Number: 21201530045

Fort Polk

Ft. Polk LA 71459

Status: Unutilized

Comments: off-site removal only; no future agency need; 3,740 sq. ft.; reloadable office; contact Army for more information.

9 Buildings Property Number: 21201530073

Fort Polk

Ft. Polk LA 71459

Location: 00002 (190857; 4,070 sq. ft.); 00003 (292997; 97 sq. ft.); 02531 (191515; 4,830 sq. ft.); 02599 (191521; 159 sq. ft.); 04250 (191272; 240 sq. ft.); 07526 (299361; 480 sq. ft.); 09787 (293242; 608 sq. ft.); 09806 (188086; 2,834 sq. ft.); M0350 (188086)

Status: Underutilized

Comments: off-site removal only; no future agency need; removal difficult due to type/size; poor conditions; contact Army for more details on a specific property.

Building 07043 Property Number: 21201530101

Fort Polk

Fort Polk LA 71459

Status: Underutilized

Comments: off-site removal only; 1,200 sq. ft.; maintenance building; poor conditions; contact Army for more information.

Maryland

Bldg. 06186 Property Number: 21201110026

Ft. Detrick

Fredrick MD 21702

Status: Unutilized

Comments: off-site removal only, 14,033 sq. ft., current use: communications ctr., bldg. not energy efficient but fair condition.

5 Buildings Property Number: 21201330008

Ft. George G. Meade

Ft. George MD 20755

Location: 4, 239, 700, 2790, 8608

Status: Unutilized

Comments: off-site removal only; no future agency need; sf. varies; fair to deteriorating conditions; secured area; contact Army re: info. on a specific property & accessibility/removal reqs.

Michigan

6 Buildings Property Number: 21201340026

Detroit Arsenal

Warren MI 48092

Location: WH001 (4,680 sq. ft.); WH002 (3,910 sq. ft.); WH003 (5,256 sq. ft.); WH004 (3,840 sq. ft.) WH005 (5,236 sq. ft.); WH006 (5,940 sq. ft.)

Status: Unutilized

Comments: off-site removal only; no future agency need; residential; repairs needed; contamination; secured area; contact Army for more information on a specific property accessibility requires.

6 Buildings Property Number: 21201340027

Detroit Arsenal

Warren MI 48092

Location: WH013 (4,680 sq.); WH014 (5,236 sq.); WH015 (3,000 sq.); WH016 (3,840 sq.); WH017 (3,000 sq.); WH018 (5,940 sq.)

Status: Unutilized

Comments: off-site removal only; no future agency need; residential; repairs needed; contamination; secured area; contact Army for more information on a specific property & accessibility requirements.

6 Building Property Number: 21201340028

Detroit Arsenal

Warren MI 48092

Location: WH007 (3,840 sq. ft.); WH008 (5,940 sq. ft.); WH009 (5,236 sq. ft.); WH010 (4,680 sq. ft.); WH011 (5,236 sq. ft.); WH012 (5,236 sq. ft.)

Status: Unutilized

Comments: off-site removal only; no future agency need; residential; repairs needed; contamination; secured area; contact Army for more information on a specific property and accessibility requires.

6 Buildings Property Number: 21201340029

Detroit Arsenal

Warren MI 48092

Location: WH019 (4,680 sq.); WH020 (5,940 sq.); WH021 (5,940 sq.); WH022 (4,680 sq.); WH023 (5,940 sq.); WH024 (1,760 sq.)

Status: Unutilized

Comments: off-site removal only; no future agency need; residential; repairs needed; contamination; secured area; contact Army for more information on a specific property & accessibility requirements.

4 Buildings Property Number: 21201340031

Detroit Arsenal

Warren MI 48092

Location: WH025 (1,760 sq.); WH026 (1,760 sq. ft.); WH027 (1,760 sq.); WH028 (400 sq.)

Status: Unutilized

Comments: off-site removal only; no future agency need; residential; repairs needed; contamination; secured area; contact Army for more information on a specific property & accessibility requirements.

Minnesota

18 Bldgs. Property Number: 21201210059

1245 Hwy 96 West

Arden Hills Army TRNG Site

Arden Hills MN 55112

Location: 12155, 12156, 12157, 01200, 01201, 01202, 01203, 01204, 01205, 01206, 04202, 11218, 11219, 11220, 11221, 11222, 11223, 04203

Status: Unutilized

Comments: off-site removal only; sf. varies; current use: storage; poor conditions-need repairs.

Missouri

Bldg. T1497 Property Number: 21199420441

Fort Leonard Wood

Ft. Leonard Wood Co: Pulaski MO 65473-5000

Status: Underutilized

Comments: 4720 sq. ft., 2-story, presence of lead base paint, most recent use—admin/gen. purpose, off-site use only.

Bldg. T2139 Property Number: 21199420446

Fort Leonard Wood

Ft. Leonard Wood Co: Pulaski MO 65473-5000

Status: Underutilized

Comments: 3663 sq. ft., 1-story, presence of lead base paint, most recent use—admin/gen. purpose, off-site use only.

Bldg. T2385 Property Number: 21199510115

Fort Leonard Wood

Ft. Leonard Wood Co: Pulaski MO 65473

Status: Excess

Comments: 3158 sq. ft., 1-story, wood frame, most recent use—admin., to be vacated 8/95, off-site use only.

Bldg. 2167 Property Number: 21199820179

Fort Leonard Wood

Ft. Leonard Wood Co: Pulaski MO 65473-5000

Status: Unutilized

Comments: 1296 sq. ft., presence of asbestos/lead paint, most recent use—admin., off-site use only.

Bldgs. 2192, 2196, 2198 Property Number: 21199820183

Fort Leonard Wood

Ft. Leonard Wood Co: Pulaski MO 65473-5000

Status: Unutilized

Comments: 4720 sq. ft., presence of asbestos/lead paint, most recent use—barracks, off-site use only.

12 Bldgs. Property Number: 21200410110

Fort Leonard Wood

Ft. Leonard Wood Co: Pulaski MO 65743-8944

Location: 07036, 07050, 07054, 07102, 07400, 07401, 08245, 08249, 08251, 08255, 08257, 08261

Status: Unutilized

Comments: 7152 sq. ft. 6 plex housing quarters, potential contaminants, off-site use only.

6 Bldg. Property Number: 21200410111

Fort Leonard Wood

Ft. Leonard Wood Co: Pulaski MO 65743-8944

Location: 07044, 07106, 07107, 08260, 08281, 08300

Status: Unutilized

Comments: 9520 sq. ft., 8 plex housing quarters, potential contaminants, off-site use only.

Bldgs. 08283, 08285 Property Number: 21200410113

Fort Leonard Wood

Ft. Leonard Wood Co: Pulaski MO 65743-8944

Status: Unutilized

Comments: 2240 sq. ft., 2 plex housing quarters, potential contaminants, off-site use only.

15 Bldgs. Property Number: 21200410114

Fort Leonard Wood

Ft. Leonard Wood Co: Pulaski MO 65743-0827

Location: 08267, 08269, 08271, 08273, 08275, 08277, 08279, 08290, 08296, 08301

Status: Unutilized

Comments: 4784 sq. ft., 4 plex housing quarters, potential contaminants, off-site use only.

Bldg. 09432 Property Number: 21200410115

Fort Leonard Wood

Ft. Leonard Wood Co: Pulaski MO 65743-8944

Status: Unutilized

Comments: 8724 sq. ft., 6-plex housing quarters, potential contaminants, off-site use only.

Bldgs. 5006 and 5013 Property Number: 21200430064

Fort Leonard Wood

Ft. Leonard Wood Co: Pulaski MO 65743-8944

Status: Unutilized

Comments: 192 sq. ft., needs repair, most recent use—generator bldg., off-site use only.

Bldgs. 13210, 13710 Property Number: 21200430065

Fort Leonard Wood

Ft. Leonard Wood Co: Pulaski MO 65743-8944

Status: Unutilized

Comments: 144 sq. ft. each, needs repair, most recent use—communication, off-site use only.

P0002 Property Number: 21201510006

88th Reginald Support Command

Cape Girardeau MO 63701

Status: Unutilized

Comments: off-site removal only; 96 sq. ft.; storage; no future agency need; 14+ mons. vacant; asbestos; contact Army for more information.

Montana

Bldg. 00405 Property Number: 21200130099

Fort Harrison

Ft. Harrison Co: Lewis/Clark MT 59636

Status: Unutilized

Comments: 3467 sq. ft., most recent use—storage, security limitations.

Bldg. T0066 Property Number: 21200130100

Fort Harrison

Ft. Harrison Co: Lewis/Clark MT 59636

Status: Unutilized

Comments: 528 sq. ft., needs rehab, presence of asbestos, security limitations.

New Jersey

4 Bldgs. Property Number: 21201220011

Picatinny Arsenal

Dover NJ 07806

Location: 1179, 1179A, 1179C, 1179D

Status: Unutilized

Comments: off-site removal only; sf varies; usage varies; need repairs; contamination; remediation required; secured area; need prior approval to access property; contact Army for more details.

4 Building Property Number: 21201240026

Route 15 North

Picatinny Arsenal NJ 07806

Location: 3701, 3702, 3706, 3709

Status: Unutilized

Comments: off-site removal only, sq. varies, moderate conditions, restricted area; contact Army for information on accessibility removal and specific details on a particular property.

Building 00063 Property Number: 21201310039

Picatinny Arsenal

Picatinny Arsenal NJ 07806

Status: Underutilized

Comments: off-site removal only; 44,000 sf.; storage; very poor conditions; w/in secured area; contact Army for accessibility/removal requirements.

Building 01186 Property Number: 21201310040

Pictinny Arsenal

Dover NJ 07806

Status: Unutilized

Comments: off-site removal only; 192 sf.; storage; very poor conditions; w/in restricted area; contact Army for info. on accessibility/removal requirements.

Building 03223 Property Number: 21201330046

Picatinny Arsenal

Dover NJ 07806-5000

Status: Unutilized

Comments: off-site removal only; no future agency need; 312 sf.; 102 yrs.-old; poor conditions; secured area; contact Army for more info.

New York

Bldg. 2218 Property Number: 21200510067

Stewart Newburg USARC

New Windsor Co: Orange NY 12553-9000

Status: Unutilized

Comments: 32,000 sq. ft., poor condition, requires major repairs, most recent use—storage/services.

7 Bldgs. Property Number: 21200510068

Stewart Newburg USARC

New Windsor Co: Orange NY 12553-9000

Location: 2122, 2124, 2126, 2128, 2106, 2108, 2104

Status: Unutilized

Comments: sq. ft. varies, poor condition, needs major repairs, most recent use—storage/services.

Bldg. 4802 Property Number: 21201010019

Fort Drum

Jefferson NY 13602

Status: Unutilized

Comments: 3300 sq. ft., most recent use—hdgts. facility, off-site use only.

Bldgs. 4813 Property Number: 21201010020

Fort Drum

Jefferson NY 13602

Status: Unutilized

Comments: 750 sq. ft., most recent use—wash rack, off-site use only.

Bldgs. 1240, 1255 Property Number: 21201010022

Fort Drum

Jefferson NY 13602

Status: Unutilized

Comments: various sq. ft., most recent use—vehicle maint. facility, off-site use only.

6 Bldgs. Property Number: 21201010023

Fort Drum

Jefferson NY 13602

Location: 1248, 1250, 1276, 2361, 4816, 4817

Status: Unutilized

Comments: various sq. ft., most recent use—storage, off-site use only.

Bldgs. 02700 and 22630 Property Number: 21201210080

Fort Drum

Fort Drum NY 13602

Status: Underutilized

Comments: off-site removal only; sf. varies; current use: varies; need repairs.

Bldg. 1345 Property Number: 21201220030

Ft. Drum

Ft. Drum NY

Status: Underutilized

Comments: off-site removal only; 7,219 sf.; vehicle maint. shop.; extensive repairs needed; secured area; need prior approval to access property.

Building 191 Property Number: 21201230005

First Street West

Ft. Drum NY 13602

Status: Unutilized

Comments: off-site removal only; 5,922 sf.; use: Admin.; extensive structural damage; remediation required before occupying bldg.; secured area; contact Army to schedule appt. to access property.

5 Buildings Property Number: 21201230006

Ft. Drum

Ft. Drum NY 13601

Location: 1454, 1456, 2443, 4890, 4893

Status: Unutilized

Comments: off-site removal only; sf. varies; use; varies; extensive repairs needed due to age; secured area; contact Army re: details on accessing property.

Building 1560 Property Number: 21201240024

Rte. 293

West Point NY 10996

Status: Unutilized

Comments: off-site removal only, 4544 sf., storage severely damage from hurricane Irene, restricted area, contact Army on information on accessibility/removal.

2 Buildings Property Number: 21201320034

Wheeler-Sack Army

Ft. Drum NY 13602

Location: Bldgs. 2908 & 2909 are each 11,809 sf.

Status: Unutilized

Comments: no future Army use; off-site removal only; poor conditions; secured area; contact Army re: accessibility/removal requirements.

3 Buildings Property Number: 21201330011

Ft. Drum

Ft. Drum NY 13602

Location: 2150, 2190, 2360

Status: Underutilized

Comments: off-site removal only; no future agency need; sf. varies; poor conditions; secured area; contact Army re a specific property & accessibility/removal reqs.

Building 2022 Property Number: 21201330020

Wheeler Sack Army Airfield

Ft. Drum NY 13602

Status: Unutilized

Comments: off-site removal only; no future agency need; 115 sf.; communication ctr.; 12t months vacant; poor conditions; secure area; contact Army for accessibility/removal reqs.

3 Buildings Property Number: 21201340018

Fort Drum

Fort Drum NY 13602

Location: 2890 (560 sq.); 1388 (296 sq.); 4779 (296 sq.)

Status: Underutilized

Comments: off-site removal only; no future agency need; poor conditions; secured area; contact Army for more information on a specific property & accessibility requirements.

01004 Property Number: 21201340038

Fort Drum

Watertown NY 13602

Status: Underutilized

Comments: off-site removal only; no future agency need; obstacle course; dissemble required to relocate; restricted area; contact Army for more info.

3 Buildings Property Number: 21201420010

Fort Drum

Fort Drum NY 13602

Location: 1395; 1495; 22639

Status: Underutilized

Comments: off-site removal only; no future agency need; poor conditions; secured area; contact Army for more info. on a specific property & removal accessibility reqs.

Building 2560 Property Number: 21201520032

Munns Corners Road

Fort Drum NY 13601

Status: Underutilized

Comments: off-site removal; 36 sq. ft.; no future agency need; communication ctr.; poor conditions; contact Army for more information.

North Carolina

Building 42843 Property Number: 21201240034

Ft. Bragg

Ft. Bragg NC 28310

Location: 42843

Status: Underutilized

Comments: located in a secured area, public access is denied and no alternative method to gain access without compromising national security.

Building D1209 Property Number: 21201330069

4285 Gruber Road

Ft. Bragg NC 28308

Status: Unutilized

Comments: 15,327 sf; 21 yrs. old; extensive repairs needed; secured area; extensive background check required; contact Army for accessibility requirements.

D3039 Property Number: 21201330070

3912 Donovan Street

Ft. Bragg NC 28308

Status: Unutilized

Comments: 13,247 sf.; 42 yrs. old; dining facility; extensive repairs; extensive background check; secured area; contact Army for accessibility requirements.

3 Buildings Property Number: 21201540061

Fort Bragg

Ft. Bragg NC 28310

Location: Q3113-1034505 (64 sq. ft.); Q3414-1034511 (64 sq. ft.); Q2322-296150 (17 sq. ft.)

Status: Unutilized

Comments: very poor conditions; contact Army for more information on a specific property listed above.

Ohio

125 Property Number: 21201230025

1155 Buckeye Rd.

Lima OH 45804

Location: Joint Systems Manufacturing Center

Status: Underutilized

Comments: off-site removal only; 2,284 sf.; use: storage; poor conditions; asbestos identified; secured area; contact Army re: accessibility requirements.

Oklahoma

Bldg. T-838, Fort Sill Property Number: 21199220609

838 Macomb Road

Lawton Co: Comanche OK 73503-5100

Status: Unutilized

Comments: 151 sq. ft., wood frame, 1 story, off-site removal only, most recent use—vet facility (quarantine stable).

Bldg. T-954, Fort Sill Property Number: 21199240659

954 Quinette Road

Lawton Co: Comanche OK 73503-5100

Status: Unutilized

Comments: 3571 sq. ft., 1 story wood frame, needs rehab, off-site use only, most recent use—motor repair shop.

Bldg. T-3325, Fort Sill Property Number: 21199240681

3325 Naylor Road

Lawton Co: Comanche OK 73503-5100

Status: Unutilized

Comments: 8832 sq. ft., 1 story wood frame, needs rehab, off-site use only, most recent use—warehouse.

Bldg. P-366, Fort Sill Property Number: 21199610740

Lawton Co: Comanche OK 73503

Status: Unutilized

Comments: 482 sq. ft., possible asbestos, most recent use—storage, off-site use only.

Bldg. T-810 Property Number: 21199730350

Fort Sill

Lawton Co: Comanche OK 73503-5100

Status: Unutilized

Comments: 7205 sq. ft., possible asbestos/lead paint, most recent use—hay storage, off-site use only.

Bldgs. T-837, T-839 Property Number: 21199730351

Fort Sill

Lawton Co: Comanche OK 73503-5100

Status: Unutilized

Comments:approx. 100 sq. ft. each, possible asbestos/lead paint, most recent use—storage, offsite use only.

Bldg. P-934 Property Number: 21199730353

Fort Sill

Lawton Co: Comanche OK 73503-5100

Status: Unutilized

Comments: 402 sq. ft., possible asbestos/lead paint, most recent use—storage, off-site use only.

Bldg. T-2184 Property Number: 21199730364

Fort Sill

Lawton Co: Comanche OK 73503-5100

Status: Unutilized

Comments:454 sq. ft., possible asbestos/lead paint, most recent use—storage, off-site use only.

Bldgs. T-3001, T-3006 Property Number: 21199730383

Fort Sill

Lawton Co: Comanche OK 73503-5100

Status: Unutilized

Comments:approx. 9300 sq. ft., possible asbestos/lead paint, most recent use—storage, off-site use only.

Bldg. T-3314 Property Number: 21199730385

Fort Sill

Lawton Co: Comanche OK 73503-5100

Status: Unutilized

Comments:229 sq. ft., possible asbestos/lead paint, most recent use—office, off-site use only.

Bldg. T-5041 Property Number: 21199730409

Fort Sill

Lawton Co: Comanche OK 73503-5100

Status: Unutilized

Comments:763 sq. ft., possible asbestos/lead paint, most recent use—storage, off-site use only.

Bldg. T-7775 Property Number: 21199730419

Fort Sill

Lawton Co: Comanche OK 73503-5100

Status: Unutilized

Comments: 1452 sq. ft., possible asbestos/lead paint, most recent use—private club, off-site use only.

4 Bldgs. Property Number: 21199910133

Fort Sill

P-617, P-1114, P-1386, P-1608

Lawton Co: Comanche OK 73503-5100

Status: Unutilized

Comments: 106 sq. ft., possible asbestos/lead paint, most recent use—utility plant, off-site use only.

Bldg. P-746 Property Number: 21199910135

Fort Sill

Lawton Co: Comanche OK 73503-5100

Status: Unutilized

Comments: 6299 sq. ft., possible asbestos/lead paint, most recent use—admin., off-site use only.

Bldg. S-6430 Property Number: 21199910156

Fort Sill

Lawton Co: Comanche OK 73503-5100

Status: Unutilized

Comments: 2080 sq. ft., possible asbestos/lead paint, most recent use—range support, off-site use only.

Bldg. T-6461 Property Number: 21199910157

Fort Sill

Lawton Co: Comanche OK 73503-5100

Status: Unutilized

Comments: 200 sq. ft., possible asbestos/lead paint, most recent use—range support, off-site use only.

Bldg. T-6462 Property Number: 21199910158

Fort Sill

Lawton Co: Comanche OK 73503-5100

Status: Unutilized

Comments: 64 sq. ft., possible asbestos/lead paint, most recent use—control tower, off-site use only.

Bldg. P-7230 Property Number: 21199910159

Fort Sill

Lawton Co: Comanche OK 73503-5100

Status: Unutilized

Comments: 160 sq. ft., possible asbestos/lead paint, most recent use—transmitter bldg., off-site use only.

Bldg. P-747 Property Number: 21200120120

Fort Sill

Lawton Co: Comanche OK 73503-5100

Status: Unutilized

Comments: 9232 sq. ft., possible asbestos/lead paint, most recent use—lab, off-site use only.

Bldg. P-842 Property Number: 21200120123

Fort Sill

Lawton Co: Comanche OK 73503-5100

Status: Unutilized

Comments: 192 sq. ft., possible asbestos/lead paint, most recent use—storage, off-site use only.

Bldg. P-1672 Property Number: 21200120126

Fort Sill

Lawton Co: Comanche OK 73503-5100

Status: Unutilized

Comments: 1056 sq. ft., possible asbestos/lead paint, most recent use—storage, off-site use only.

6 Buildings Property Number: 21201540034

Fort Sill

Ft. Sill OK 73503

Location: 1500 (100 SQ. FT.; Fueling/POL/Wash Support Bldg.); 1501 (9,802 SQ. FT.; Vehicle Maintenance Shop);1502 (9,938 SQ. FT.; Vehicle Maintenance Shop); 1503 (10,190 SQ. FT.; Limited Use Instructional Bldg.); 1521 (80 SQ. FT.; Oil Storage Building); 2590 (3,626 SQ. FT.; ADMIN GENERAL PURPOSE)

Status: Unutilized

Comments: off-site removal only; no future agency need; removal difficult due to type/size; 6+mons. vacant; contamination; contact Army for more information on a specific property listed above.

Pennsylvania

BUILDING

Building 01015 Property Number: 21201320031

11 Hap Arnold Blvd.

Tobyhanna PA 18466

Status: Unutilized

Comments: off-site removal only; 3,120 sf.; recruiting station; 1 month vacant; poor conditions; asbestos; secured area; contact Army for more info.

Building 01001 Property Number: 21201320035

11 Hap Arnold Blvd.

Tobyhanna PA 18466

Status: Excess

Comments: off-site removal only; 4,830 sf.; youth center/admin.; 1 month vacant; poor conditions; asbestos; secured area; contact Army for more info.

Puerto Rico

5 Buildings Property Number: 21201330037

Ft. Buchanan

Guaynabo PR 00934

Location: 00141, 00551, 00558, 00570, 00579

Status: Excess

Comments: Off-site removal only; deteriorated; secured area; contact Army for info. on a specific property & accessibility removal reqs.

2 Buildings Property Number: 21201540057

USAG Fort Buchanan RQ327

Fort Buchanan PR 00934

Location: 01024 (300 sq. ft.; storage); 01026 (300 sq. ft.; storage)

Status: Excess

Comments: off-site removal only; poor conditions; contact Army for more information on a property listed above.

Tennessee

00869 Property Number: 21201430036

Fort Campbell

Fort Campbell TN 42223

Status: Excess

Comments: 3,076 sq. ft.; storage; fair conditions; asbestos in floor tiles; secured area; contact Army for more information.

07612 Property Number: 21201430044

Fort Campbell

Fort Campbell TN 42223

Status: Excess

Comments: 600 sq. ft.; storage; fair condition; secured area; contact Army for more information.

9 Buildings Property Number: 21201440002

Fort Campbell

Ft. Campbell TN 42223

Location: 00039; 00846; 05123; 05638; 05640; 05641; 05646; 07540; 07811

Status: Excess

Comments: off-site removal only; relocation may be extremely difficult due to size/type; sq. ft. varies; poor conditions; contamination; contact Army for more information.

03R28, 02r28, & 01R28 Property Number: 21201440005

Fort Campbell

Ft. Campbell TN 42223

Status: Underutilized

Comments: off-site removal only; no future agency need; 552 sq. ft.; range support facility; major repairs; secured area; contact Army for more information.

05127 Property Number: 21201440058

Fort Campbell

Ft. Campbell TN 42223

Status: Excess

Comments: off-site removal only; 224 sq. ft.; storage; fair conditions; contact Army for more information on accessibility/removal requirements.

4 Buildings Property Number: 21201440059

Fort Campbell

Ft. Campbell TN 42223

Location: 05211 (320 sq. ft.); 05665 (800 sq. ft.); 00100 (800 sq. ft.); 01604 (126 sq. ft.)

Status: Excess

Comments: off-site removal only; fair conditions; usage varies; contact Army for more information on a specific property.

06907 Property Number: 21201530029

Ft. Campbell

Ft. Campbell TN 42223

Status: Unutilized

Comments: 2,581 Sq. ft.; office; 50+ yrs. old; fair conditions; needs repair; daily repair; contamination; daily registration required to access property; contact Army for more information.

3 Buildings Property Number: 21201540017

Fort Campbell

Ft. Campbell TN

Location: 6995 (RPUID: 594789; 3,687 SQ. FT.; OFFICE); 07825 (RPUID: 590376; 15,111 SQ. FT.; Ammo Repair); A6924 (RPUID: 598990; 3,688 SQ. FT.; OFFICE)

Status: Unutilized

Comments: Fair to poor conditions; asbestos present; contact Army for more information on a specific property listed above.

Texas

Bldgs. P6220, P6222 Property Number: 21200330197

Fort Sam Houston

Camp Bullis

San Antonio Co: Bexar TX

Status: Unutilized

Comments: 384 sq. ft., most recent use—carport/storage, off-site use only.

Bldgs. P6224, P6226 Property Number: 21200330198

Fort Sam Houston

Camp Bullis

San Antonio Co: Bexar TX

Status: Unutilized

Comments: 384 sq. ft., most recent use—carport/storage, off-site use only.

Bldgs. 04281, 04283 Property Number: 21200720085

Fort Hood

Bell TX 76544

Status: Excess

Comments: 4000/8020 sq. ft., most recent use—storage shed, off-site use only.

Bldg. 04285 Property Number: 21200720087

Fort Hood

Bell TX 76544

Status: Excess

Comments: 8000 sq. ft., most recent use—storage shed, off-site use only.

Bldg. 04286 Property Number: 21200720088

Fort Hood

Bell TX 76544

Status: Excess

Comments: 36,000 sq. ft., presence of asbestos, most recent use—storage shed, off-site use only.

Bldg. 04291 Property Number: 21200720089

Fort Hood

Bell TX 76544

Status: Excess

Comments: 6400 sq. ft., presence of asbestos, most recent use—storage shed, off-site use only.

Bldg. 00324 Property Number: 21200810049

Fort Hood

Bell TX 76544

Status: Unutilized

Comments: 13,319 sq. ft., most recent use—roller skating rink, off-site use only.

Bldg. 04449 Property Number: 21200810056

Fort Hood

Bell TX 76544

Status: Unutilized

Comments: 3822 sq. ft., most recent use—police station, off-site use only.

B-42 Property Number: 21201210007

Fort Hood

Ft. Hood TX 76544

Status: Excess

Comments: off-site removal only; 893 sq. ft.; current use: storage; asbestos identified.

B-1301 Property Number: 21201220001

Ft. Bliss

Ft. Bliss TX 79916

Status: Underutilized

Comments: off-site removal only; 18,739 sf.; current use: thrift shop; poor conditions; need repairs.

Bldg. 7194 Property Number: 21201220002

Ft. Bliss

Ft. Bliss TX 79916

Status: Unutilized

Comments: off-site removal only; 2,125 sf.; current use: housing; poor conditions—need repairs; asbestos & lead identified; need remediation.

Building 6951 Property Number: 21201240010

11331 Montana Ave.

Ft. Bliss TX 79916

Status: Excess

Comments: off-site removal only; 288 sf.; utility bldg.; poor conditions; limited public access; contact Army for info. on accessibility/removal.

Building 6942 Property Number: 21201240011

11331 Montana Ave.

Ft. Bliss TX 79916

Status: Excess

Comments: off-site removal only; 1,059 sf.; storage; poor conditions; limited public access; contact Army for info. on accessibility/removal.

Bldg. 2432 Property Number: 21201240013

Carrington Rd.

Ft. Bliss TX 79916

Status: Excess

Comments: off-site removal only; 180 sf.; dispatch bldg.; poor conditions; limited public access; asbestos/lead identified; contact Army for info. on accessibility/removal.

Building 50 Property Number: 21201240014

50 Slater Rd.

Ft. Bliss TX 79916

Status: Excess

Comments: off-site removal only; 9,900 sf.; office; poor conditions; limited public access; asbestos/lead identified; contact Army for info. on accessibility/removal.

2 Building Property Number: 21201330029

Fort Bliss

Fort Bliss TX 79916

Location: 05015 (22,915 sf.); 05019 (23,495 sf.)

Status: Unutilized

Comments: off-site removal only; no future agency need; poor conditions; 6+ months vacant; contact Army for info. on accessibility; removal reqs.

92065 Property Number: 21201420021

92065 Supply Rd.

Fort Hoop TX 76544

Status: Excess

Comments: off-site removal only; 3,994 sq. ft.; admin general purpose; 1+ month vacant; contact Army for more information.

4285 Property Number: 21201430019

Fort Hood

Fort Hood TX 76544

Location: 4285

Status: Unutilized

Comments: off-site removal only; no future agency need; semi-perm. Structure type; 10,552 sq. ft.; removal may be difficult due to size; poor condition; secured area; contact Army for more information.

2 Buildings Property Number: 21201430020

Fort Hood

Fort Hood TX 76544

Location: 4461 (6,515 sq. ft.); 4611 (3,311 sq. ft.)

Status: Excess

Comments: off-site removal only; removal may be difficult due to size/type; fair to poor condition; asbestos present in building 4611; secured area; contact Army for more information.

4408 Property Number: 21201430021

Fort Hood

Fort Hood TX 76544

Location: 4408

Status: Excess

Comments: off-site removal only; semi-perm. Structure type; 9,812 sq. ft.; removal difficult due to size; fair condition; secured area; contact Arm for more information.

9 Buildings Property Number: 21201430030

Fort Hood

Fort Hood TX 76544

Location:

4640 (1,606sq.ft.); 4641 (2,021sq.ft.); 4644 (4,080sq.ft.); 4656 (4,045sq.ft.); 4657 (4,040sq.ft.); 36019 (3,192sq.ft.); 36027 (2,425sq.ft.); 36028 (2,400sq.ft.); 36043 (5,000sq.ft.)

Status: Unutilized

Comments: off-site removal only; no future agency need; due to site relocation may be difficult; poor condition; secured area; contact Army for more information.

715 Property Number: 21201430047

Fort Hood

Fort Hood TX 76544

Status: Excess

Comments: off-site removal only; 2,810 sq. ft.; semi-permanent structure type; 11+ months vacant; fair condition; contamination; secured area; contact Army for more information.

07133 Property Number: 21201440011

Fort Bliss

Ft. Bliss TX 79916

Status: Unutilized

Comments: off-site removal only; no future agency need; relocation difficult due to size/type; 12,178 sq. ft.; storage; 120+ months vacant; poor conditions; contact Army for more information.

5 Buildings Property Number: 21201440012

Fort Bliss

Ft. Bliss TX 79916

Location: 07134; 07142; 07153; 07162; 07178

Status: Unutilized

Comments: off-site removal only; no future agency need; relocation difficult due to size/type; sq. ft. varies; 120+ months vacant; poor conditions; contact Army for more information.

05095 Property Number: 21201440022

Fort Bliss

Ft. Bliss TX 79916

Status: Unutilized

Comments: off-site removal only; no future agency need; 12+ months vacant; good conditions; secured area; contact Army for more information.

07113 Property Number: 21201440023

Fort Bliss

Ft. Bliss TX 79916

Status: Unutilized

Comments: off-site removal only; 8,855 sq. ft.; no future agency need; relocation difficult due to size/type; 120+ months vacant; child-care center; poor conditions; contact Army for more information.

2 Buildings Property Number: 21201440035

Yoakum USARC

Yoakum TX 77995

Location: P1005; P1006

Status: Underutilized

Comments: off-site removal only; no future agency need; 30 sq. ft.; storage for flammable materials; 53+ yrs.-old; remediation needed; contact Army for more information.

4 Buildings Property Number: 21201520026

Fort Hood

Fort Hood TX 76544

Location: Buildings 12000 (284 sq.); 4496 (284 sq.); 27000 (284 sq.); 86000 (284 sq.)

Status: Unutilized

Comments: off-site removal; 32+yrs. old; equipment bldgs.; 1+ mos. vacant; no future agency need; contact Army for more information.

10 Buildings Property Number: 21201520043

USAG Fort Bliss

USAG Fort Bliss TX 79916

Location: Building 05096 (768 sq.); 08396 (198 sq.); 08395 (198 sq.); 08380 (900 sq.); 08365 (132 sq.); 08364 (432 sq.); 08309 (120 sq.); 08348 (108 sq.); 08268 (432 sq.); 08349 (100 sq.)

Status: Unutilized

Comments: off-site removal; 28-70 yrs. old for bldgs. respectively above; admin; toilet; storg; range bldg.; off. qtrs.; vacant 12-60 mos.; poor cond; no future agency need; contact Army for more info.

90005; RPUID:285770 Property Number: 21201540012

Clarke Road

Fort Hood TX

Status: Excess

Comments: off-site removal only; removal extremely difficult due to type; 181 sq. ft.; Navigation Building, Air; contact Army for more information.

92044; RPUID: 286348 Property Number: 21201540021

Loop Road

Fort Hood TX 76544

Status: Excess

Comments: off-site removal only; removal extremely difficult due to type/size; 1,920 SQ. FT.; Admin General Purpose; lead and asbestos contamination; contact Army for more information.

1348 (RPUID: 313187) Property Number: 21201540022

North Avenue

Fort Hood TX 76544

Status: Excess

Comments: off-site removal only; 654 sq. ft.; Admin General Purpose; fair/moderate conditions; Asbestos located in Building caulking and putties; contact Army for more information.

91003; RPUID: 286087 Property Number: 21201540025

West Headquarters Avenue

Fort Hood TX 76544

Status: Excess

Comments: off-site removal only; removal extremely difficult due to type; 325 sq. ft.; Storage General Purpose; possible lead and asbestos contamination; contact Army for more information.

36017; RPUID: 174093 Property Number: 21201540027

Wratten Drive

Fort Hood TX 76544

Status: Excess

Comments: off-site removal only; removal extremely difficult due to type/size; 2,400 sq. ft.; Laboratory; contact Army for more information.

Utah

Building 00118 Property Number: 21201310002

1 Tooele Army Depot

Tooele UT 84074

Location: previously reported under HUD property number 21200740163

Status: Underutilized

Comments: off-site removal only; 6,136 sf.; 4 mons. vacant; barracks; major repairs needed; w/in secured area; contact Army for info. on accessibility/removal reqs.

Building 00155 Property Number: 21201310003

1 Tooele Army Depot

Tooele UT 84074

Location: previously reported under HUD property number 21200740165

Status: Underutilized

Comments: off-site removal only; 8,960 sf.; bowling ctr.; major repairs needed; w/in secured area; contact Army for info. on accessibility/removal reqs.

Building 00030 Property Number: 21201310067

Tooele Army Depot

Tooele UT 84074

Status: Underutilized

Comments: off-site removal only; playground; disassembly required; minor restoration needed; restricted area; contact Army for accessibility/removal reqs.

Building 01322 Property Number: 21201330047

1 Tooele Army Depot

Tooele UT 84074

Status: Unutilized

Comments: off-site removal only; no future agency need; 53 sf.; 26+ months vacant; access control facility; poor conditions; secured area; contact Army for more info. on accessibility removal reqs.

Virginia

Fort Story Property Number: 21200720065

Ft. Story VA 23459

Status: Unutilized

Comments: 525 sq. ft., most recent use—power plant, off-site use only.

8 Bldgs. Property Number: 21201220004

Ft. Belvoir

Ft. Belvoir VA 22060

Location: 808, 1150, 1197, 2303, 2903, 2905, 2907, 3137

Status: Excess

Comments: off-site removal only; sf. varies; usage varies; good to poor conditions; may require repairs; contact Army for more details on specific properties.

9 Buildings Property Number: 21201240003

Ft. Belvoir

Ft. Belvoir VA 22060

Location: 358, 361, 1140, 1141, 1142, 1143, 1498, 1499, 2302

Status: Unutilized

Comments: off-site removal only; sf. varies; Admin.; fair conditions; located in restricted area; contact Army for info. on accessibility/removal & specific info. on a property.

510 Property Number: 21201430007

Defense Supply Center

Richmond VA 23237

Location: 510

Status: Excess

Comments: off-site removal only; removal may be difficult due to structure type; Barbeque Pit; 20 sq. ft.; 22+ years old; secured area; contact Army for more information.

Building 22696 Property Number: 21201510015

Fort Drum

Ft. Drum VA 13602

Status: Unutilized

Comments: off-site removal only; no future agency need; removal may be difficult; 400 sq. ft.; range operations bldg.; deteriorated; contact Army for more information.

T-482 Property Number: 21201520003

JB Myer Henderson Hall

Ft. Myer VA 22211

Status: Excess

Comments: off-site removal only; 8,267 sq. ft.; relocation may be difficult to size; office; 6+ months vacant; contact Army for more information.

Washington

Bldg. 8956 Property Number: 21199920308

Fort Lewis

Ft. Lewis Co: Pierce WA 98433

Status: Excess

Comments: 100 sq. ft., needs repair, presence of asbestos/lead paint, most recent use—storage, off-site use only.

E1302 & R7610 Property Number: 21201230028

JBLM

JBLM WA 98433

Status: Unutilized

Comments: 80 sf. (E1302); 503 sf. (R7610); use: varies; major repairs needed; secured area; contact Army re: accessibility requirements.

Bldg. 06239 Property Number: 21201430053

Joint Base Lewis McChord

JBLM WA 90433

Status: Unutilized

Comments: off-site removal only; no future agency need; deconstruct to relocate; difficult to relocate due to size/type; poor conditions; contact Army for more info.

23 Buildings Property Number: 21201430054

Joint Base Lewis McChord

JBLM WA 98433

Location: 03223; 03225; 03627; 03628; 03629; 03632; 03638; 03640; 03641; 03643; 03644; 03645; 06991; 09663; 09998; 11680; A0303; C1342; F0017; F0018; J0831; J0833; W3641

Status: Underutilized

Comments: off-site removal only; no future agency need; deconstruct to relocate; difficult to relocate due to type/size; poor conditions; secured area; contact for more info.

Building 02080 Property Number: 21201440048

Joint Base Lewis McChord

JBLM WA 98433

Status: Underutilized

Comments: off-site removal only; no future agency need; relocation may be difficult due to type/size; 2,031 sq. ft.; storage; 1+ month vacant; major repairs needed; contact Army for more information.

2 Buildings Property Number: 21201440057

Joint Base Lewis McChord

JBLM WA 98433

Location: 01036; 01037

Status: Underutilized

Comments: off-site removal only; no future agency need; relocation extremely difficult due to size; 8,142 sq. ft. for each; major repairs needed; contact Army for more information.

5 Buildings Property Number: 21201510042

Joint Base Lewis McChord

JBLM WA 98433

Location: D0110 (148 sq. ft.); 03933 (192 sq. ft.); O04ED(48 sq. ft.); 14109 (225 sq. ft.); 09643 (720 sq. ft.)

Status: Underutilized

Comments: off-site removal only; no future agency need; significant repairs needed; contact Army for more information on a specific property.

Building 03932 Property Number: 21201520001

Joint Base Lewis McChord

JBLM WA 98433

Status: Underutilized

Comments: off-site removal only; no future agency need; 120 sq. ft.; storage; 49+ yrs.; significant repairs for restoration; contamination; contact Army for accessibility and removal requirements.

COE

Building

Arkansas

10′x24′ Concrete Floor & Slab Property Number: 31201540003

Roof

10299 Bay Ridge Dr.

Dardanelle AR 72834

Status: Underutilized

Comments: 240 sq. ft.; rec. facility (campground) restroom; fair conditions; contact COE for more information.

2 Structures Property Number: 31201540004

blue Mountain Lake Field Office

CESWL-OP-NB-B

Havana AR 72842

Location: Waveland Park Vault Toilet, BLUMTN-43365, 16′x10′8″; Tower Heights Park, Vault Toilet, BLUMTN-43347, 10′8”x24′

Status: Underutilized

Comments: deteriorated/decay; will require substantial repairs; contact COE for more information.

2 Structures Property Number: 31201540005

Blue Mountain Lake Field Office

CESWL-OP-NB-B

Plainview AR 72842

Location: Fish Cleaning Station with canopy, NIMROD-44953, 144 sq. ft.; Fish Cleaning Station with canopy, NIMROD-44942

Status: Underutilized

Comments: deteriorated/decay; will require substantial repairs; contact COE for more information.

Oklahoma

Land

0.1 Acres of Land Property Number: 31201540002

Lake Eufaula

Lake Eufaula OK

Status: Unutilized

Comments: 100% of property occupied by unauthorized encroachment consisting of a portion of a residence and porch.

GSA

Building

Illinois

(MED) Outer Marker (OM) Property Number: 54201540006

Facility

297 Spring Lake Drive

Itasca IL 60143

Location: Land Holding Agency: FAA

Disposal Agency: GSA

Status: Surplus

Comments: .441 acres; FAA tower site; contact GSA for more information.

GSA Number: 1-U-IL-805.

Wisconsin

FM Repeater Station Install.#3 Property Number: 54201540003

Sec. 26, T. 9N, R 6W

Lynnville WI 54626

Location: Land Holding Agency: COE

Disposal Agency: GSA

Status: Excess

Comments: 50+ yrs. old; 80 sq. ft.; storage; average condition; contact GSA for more information.

GSA Number: 1-D-WI-622

Social Security Office Bldg. Property Number: 54201540012

606 N. 9th Street

Sheboygan WI

Location: WI0098ZZ

Status: Excess

Comments: 37+yrs. old; 4,566 sq. ft.; office building; contact GSA for more information.

GSA Number: 1-W-623-AA

Interior

Building

California

Biology Trailer Property Number: 61201510002

6525 Lindermann Rd.

Byron CA 94514

Status: Unutilized

Comments: off-site removal only; no future agency need; 1,976 sq. ft.; missing door/floor boards & wall rotten; contact Interior for more information.

Vermont

Tract #1-205-30, Property Number: 61201540005

Bartlett House; Appalachian National Scenic

Trail; 563 Bartlett Brook Rd.

Pomfret VT 05067

Status: Excess

Comments: off-site removal only; 900 sq. ft.; structurally sound; boarded up; contact Interior for more information.

Navy

Building

California

Facility 20281 Property Number: 77201510003

Naval Air Weapons Station

China Lake CA 93555

Status: Excess

Comments: off-site removal only; 346 sq. ft.; 20+ yrs.-old; short range air navigational aid; roof need to be replaced; contamination; contact Navy for more information.

Florida

Yellow Water Property Number: 77201530026

Normandy Blvd.

NAS Jacksonville FL

Status: Unutilized

Comments: 102 acres; recreational; contact Navy for more information.

Land

Guam

Andersen Administrative Annex Property Number: 77201530027

(Andy South)

Marine Corps Dr. & Turner Street

Yigo GU

Status: Unutilized

Comments: 43,560 sq. ft. portion of Anderson Administrative Annex is occupied by the Guam Fire Dept. contact Navy for more information.

Building

Mississippi

Facility #457-Mainteinance & Property Number: 77201520021

Repair Facility

Naval Construction Battalion Center

Gulfport MS 39501

Status: Unutilized

Comments: off-site removal only; 8.25+ yrs. old; 928 sq. ft.; 30+ mos. vacant; maintenance; exceeded its useful life; no future agency need; contact Navy for more information.

North Carolina

2 Buildings Property Number: 77201530011

East of NC Hwy 33

Hobucken NC 28537

Location: 200'Communication Tower; Tower Support Facility

Status: Excess

Comments: off-site removal only; contact Navy for information.

Land

Swann Quarter Tower; N60191 Property Number: 77201540004

Naval Air Station Oceana

Hyde Co. NC

Status: Excess

Comments: 11.11 acres; contact Navy for more information.

Building

Texas

3 Buildings Property Number: 77201530024

Naval Air Station Corpus Christi

Corpus Christi TX 78419

Location: Bldg. H56B (900 sq.); Bldg. H-111 (255 sq. ft.); Bldg. H-101 (1,260 sq.)

Status: Excess

Comments: 27-62 yrs. old; bathhouse, generator bldg., CPO club; poor conditions; obtain visitor's pass for entry; contact Navy for more information.

Facility H56 Property Number: 77201530025

Naval Air Station Corpus Christi

Corpus Christi TX 78419

Status: Excess

Comments: 76+ yrs. old; swimming pool; poor condition; must obtain visitor's pass; contact Navy for more information.

Washington

B327 Property Number: 77201510013

Naval Air Station Whidbey Island WA

Oak Harbor WA 98278

Status: Unutilized

Comments: 71+ yrs. old; vacant 3 yrs.; 192 sq. ft.; water facility; no heat or water; door conditions; contact Navy for more info.

TITLE V PROPERTIES REPORTED IN YEAR 2015 WHICH ARE SUITABLE AND UNAVAILABLE

Air Force

Building

Oklahoma

24 Buildings Property Number: 18201310040

Tinker AFB

Tinker AFB OK 73145

Status: Excess

Reason: Federal need

Building 4008 Property Number: 18201320085

6285 Hilltop Rd.

Tinker AFB OK 73145

Status: Excess

Reason: Existing Federal need.

Army

Building

Arizona

Bldg. 22541 Property Number: 21200520078

Fort Huachuca

Cochise AZ 85613-7010

Status: Excess

Reason: Occupied

Bldg. 22040 Property Number: 21200540076

Fort Huachuca

Cochise AZ 85613

Status: Excess

Reason: Occupied

California

00806 Property Number: 21201410017

Fort Hunter Liggett

Fort Hunter Liggett CA 93928

Status: Unutilized

Reason: Existing Federal Need

Georgia

1096 Property Number: 21201410001

Fort Stewart

Ft. Stewart GA 31314

Status: Excess

Reason: Existing Federal Need; Occupied

3 Buildings Property Number: 21201410002

Hunter Army Airfield

Hunter Army Airfield GA 31409

Status: Excess

Reason: Existing Federal Need; Occupied

1124 Property Number: 21201410010

Hunter Army Airfield

Hunter Army Airfield GA 31409

Status: Excess

Reason: Existing Federal need; occupied

Louisiana

Bldgs. T406, T407, T411 Property Number: 21200540085

Fort Polk

Ft. Polk LA 71459

Status: Unutilized

Reason: Occupied

8 Buildings Property Number: 21201340023

Fort Polk

Fort Polk LA 71459

Status: Underutilized

Reason: Existing Federal need

Maryland

Bldg. 1007 Property Number: 21200140085

Ft. George G. Meade

Ft. Meade Co: Anne Arundel MD 20755

Status: Unutilized

Reason: Occupied

Bldg. 8608 Property Number: 21200410099

Fort George G. Meade

Ft. Meade MD 20755-5115

Status: Unutilized

Reason: Occupied

Bldg. 0001C Property Number: 21200520115

Federal Support Center

Olney Co: Montgomery MD 20882

Status: Unutilized

Reason: Occupied

Bldgs. 00032, 00H14, 00H24 Property Number: 21200520116

Federal Support Center

Olney Co: Montgomery MD 20882

Status: Unutilized

Reason: Occupied

Bldgs. 00034, 00H016 Property Number: 21200520117

Federal Support Center

Olney Co: Montgomery MD 20882

Status: Unutilized

Reason: Occupied

Bldgs. 00H10, 00H12 Property Number: 21200520118

Federal Support Center

Olney Co: Montgomery MD 20882

Status: Unutilized

Reason: Occupied

Missouri

Bldg. 1230 Property Number: 21200340087

Fort Leonard Wood

Ft. Leonard Wood Co: Pulaski MO 65743-8944

Status: Unutilized

Reason: Occupied

Bldg. 1621 Property Number: 21200340088

Fort Leonard Wood

Ft. Leonard Wood Co: Pulaski MO 65743-8944

Status: Unutilized

Reason: Occupied

Bldg. 5760 Property Number: 21200410102

Fort Leonard Wood

Ft. Leonard Wood Co: Pulaski MO 65743-8944

Status: Unutilized

Reason: Occupied

Bldg. 5762 Property Number: 21200410103

Fort Leonard Wood

Ft. Leonard Wood Co: Pulaski MO 65743-8944

Status: Unutilized

Reason: Occupied

Bldg. 5763 Property Number: 21200410104

Fort Leonard Wood

Ft. Leonard Wood Co: Pulaski MO 65743-8944

Status: Unutilized

Reason: Occupied

Bldg. 5765 Property Number: 21200410105

Fort Leonard Wood

Ft. Leonard Wood Co: Pulaski MO 65743-8944

Status: Unutilized

Reason: Occupied

Bldg. 5760 Property Number: 21200420059

Fort Leonard Wood

Ft. Leonard Wood Co: Pulaski MO 65743-8944

Status: Unutilized

Reason: In use

Bldg. 5762 Property Number: 21200420060

Fort Leonard Wood

Ft. Leonard Wood Co: Pulaski MO 65743-8944

Status: Unutilized

Reason: In use

Bldg. 5763 Property Number: 21200420061

Fort Leonard Wood

Ft. Leonard Wood Co: Pulaski MO 65743-8944

Status: Unutilized

Reason: In use

Bldg. 5765 Property Number: 21200420062

Fort Leonard Wood

Ft. Leonard Wood Co: Pulaski MO 65743-8944

Status: Unutilized

Reason: In use

Bldg. 00467 Property Number: 21200530085

Fort Leonard Wood

Ft. Leonard Wood Co: Pulaski MO 65743

Status: Unutilized

Reason: Occupied

Texas

Bldg. 04632 Property Number: 21200620093

Fort Hood

Bell TX 76544

Status: Excess

Reason: Occupied

Bldg. 04640 Property Number: 21200620094

Fort Hood

Bell TX 76544

Status: Excess

Reason: Occupied

Bldg. 4207 Property Number: 21200740076

Fort Hood

Bell TX 76544

Status: Excess

Reason: Utilized

Bldg. 4219A Property Number: 21200740079

Fort Hood

Bell TX 76544

Status: Excess

Reason: Utilized

Bldg. 04485 Property Number: 21200740084

Fort Hood

Bell TX 76544

Status: Excess

Reason: Utilized

Bldg. 04489 Property Number: 21200740086

Fort Hood

Ft. Hood TX 76544

Status: Excess

Reason: Utilized

Bldg. 20102 Property Number: 21200740091

Fort Hood

Bell TX 76544

Status: Excess

Reason: Utilized

Bldg. 56329 Property Number: 21200740100

Fort Hood

Bell TX 76544

Status: Excess

Reason: Utilized

Bldg. 92043 Property Number: 21200740102

Fort Hood

Bell TX 76544

Status: Excess

Reason: Utilized

Bldg.4404 Property Number: 21200740190

Fort Hood

Bell TX 76544

Status: Excess

Reason: Utilized

Bldg. 94031 Property Number: 21200740194

Fort Hood

Bell TX 76544

Status: Excess

Reason: Utilized

Building 6924 Property Number: 21201240012

11331 Montana Ave.

Ft. Bliss TX 79916

Status: Excess

Reason: Occupied

8 Buildings Property Number: 21201410020

Fort Hood

Ft. Hood TX 76544

Status: Excess

Reason: Existing Federal Need; Occupied

9 Buildings Property Number: 21201410021

Fort Hood

Fort Hood TX 96544

Status: Excess

Reason: Existing Federal need; occupied

8 Buildings Property Number: 21201410023

Fort Hood

Fort Hood TX 76544

Status: Excess

Reason: Existing Federal need; occupied

8 Buildings Property Number: 21201410028

Fort Hood

Ft. Hood TX 76544

Status: Excess

Reason: Existing federal need; occupied

Virginia

Bldg. T2827 Property Number: 21200320172

Fort Pickett

Blackstone Co: Nottoway VA 23824

Status: Unutilized

Reason: Occupied

Bldg. 01014 Property Number: 21200720067

Fort Story

Ft. Story VA 23459

Status: Unutilized

Reason: Occupied

Bldg. 01063 Property Number: 21200720072

Fort Story

Ft. Story VA 23459

Status: Unutilized

Reason: Occupied

Bldg. 00215 Property Number: 21200720073

Fort Eustis

Ft. Eustis VA 23604

Status: Unutilized

Reason: Occupied

Washington

03215 Property Number: 21201410008

Joint Base Lewis McChord

JBLM WA 98433

Status: Underutilized

Reason: Existing federal Need; Occupied

03221 Property Number: 21201410039

Joint Base Lewis McChord

JBLM WA 98433

Status: Underutilized

Reason: Existing Federal Need

GSA

Building

Alabama

SGT Jack Richburg USARCr Property Number: 54201520016

107 Kinston Highway

Opp AL 36467

Status: Excess

GSA Number: 4-D-AL-0816AA

Reason: Conveyance pending

Arkansas

708 Prospect Avenue Property Number: 54201530006

708 Prospect Avenue

Hot Springs AR 71901

Status: Surplus

GSA Number: 7-I-AR-0415-EG

Reason: Advertised for sale

Land

California

FAA Sacramento Middle Maker Property Number: 54201530007 Site

1354 Palomar Circle

Sacramento CA 95831

Status: Surplus

GSA Number: 9-U-CA-1707-AA

Reason: Expression of Interest Received

Building

Connecticut

Shepard of the Sea Chapel & Property Number: 54201510010

Community Center

231 Gungywamp Rd.

Groton CT 06340

Status: Excess

GSA Number: CT-0933

Reason: Advertised for sale

District of Columbia

49 L Street Property Number: 54201520003

49 L St. SE

Washington DC 20003

Status: Excess

GSA Number: DC-496-1

Reason: Expression of Interest Received

Louisiana

110 Willow Street Property Number: 54201540005

110 Willow Street

Homer LA 71040

Status: Excess

GSA Number: 7-A-LA-0533-AA

Reason: Expression of interested received

Land

Maine

Former Non Directional Beacon Property Number: 54201510012

“Waterville, Maine NDB”

3176 Middle Road

Sidney ME 04330

Status: Surplus

GSA Number: 1-U-ME-0696-AA

Reason: Conveyance pending

Building

Michigan

Former Newport Nike Missile Property Number: 54201530010

Site D-58

800 East Newport Road

Newport MI 48166

Status: Excess

GSA Number: 1-D-MI-0536

Reason: Advertised for sale

Minnesota

Erving L. Peterson Memorial Property Number: 54201520012

USARC

1813 Industrial Blvd.

Fergus Falls MN 56537

Status: Excess

GSA Number: 1-D-MN-0599-AA

Reason: Advertised for sale

FM Repeater Station Install.#3 Property Number: 54201540004

Sec. 24, T. 105N, R 5W

Dresbach MN

Status: Excess

GSA Number: 1-D-MN-598

Reason: Expression of interest received

Missouri

Former NMCB15 Richards-Gedaur Property Number: 54201510004

RPSUID 212

600 Seabee Drive

Belton MO 64068

Status: Surplus

GSA Number: 7-D-MO-0705

Reason: Expression of Interest Received

Nebraska

Grand Island U.S. Post Office Property Number: 54201520018 and Courthouse

203 West 2nd Street

Grand Island NE 68801

Status: Surplus

GSA Number: 7 G-NE-0519-AA

Reason: Expression of interest received.

Land

Nevada

USGS Elko Parcel Property Number: 54201540013

1701 North 5th Street

Elko NV 89801

Status: Surplus

GSA Number: 9-I-NV-0465-AE

Reason: Expression of interest

Building

New York

Michael J. Dillon Property Number: 54201540010

U.S. Memorial Courthouse

68 Court Street

Buffalo NY 14202

Status: Excess

GSA Number: NY-0993-AA

Reason: Expression of interest received

Land

QTP Radio Comm. Link Property Number: 54201510006

Repeater Facility

N. of Tennanah Rd.

Fremont NY 12736

Status: Excess

GSA Number: 1-U-NY-0988-AA

Reason: Conveyance pending.

Former ELM Directional Finder Property Number: 54201520004

N. of Halderman Hollow Rd.

Big Flats NY 14903

Status: Excess

GSA Number: 1-U-NY-0990-AA

Reason: Conveyance pending.

Building

North Carolina

Johnson J. Hayes Federal Build Property Number: 54201540015

207 West Main Street

Wilkesboro NC 28697

Status: Excess

GSA Number: NC-0735-AB

Reason: Expression of interest received

Oklahoma

Carl F. Albert FB/CH Property Number: 54201540014

McAlester

301 E. Carl Albert Parkway

McAlester OK 74501

Status: Excess

GSA Number: 7-G-OK-0583-AA

Reason: Expression of interest received

Land

FAA Oklahoma City Outer Marker Property Number: 54201530003

NW 3rd. Street

Oklahoma City OK 73127

Status: Surplus

GSA Number: 7-U-OK-0582-AA

Reason: Advertised for sale

Building

Oregon

FAA Non Directional Becon Property Number: 54201540009

(NDB) sites on 0.92 acres

93924 Pitney Lane., Sec 6, T 16S R4W, W.M.

Junction City OR 97448

Status: Unutilized

GSA Number: 9-OR-0806

Reason: Expression of interest received

Land

Pennsylvania

FAA 0.65 Acres Vacant Land Property Number: 54201520013

Westminster Rd.

Wilkes-Barre PA 18702

Status: Surplus

GSA Number: 4-U-PA-0828AA

Reason: Advertised for sale.

South Carolina

Formerly the FAA's D7 Remote Property Number: 54201540011

Communications Link Receiver Fac.

Latitude N. 33.418194 & Longitude W. 80.13738

Eadytown SC

Status: Surplus

GSA Number: 4-U-SC-0633-AA

Reason: Expression of interest received

Building

South Dakota

Lemmon Vehicle Storage Building Property Number: 54201510009

207 10th Street W.

Lemmon SD 57638

Status: Surplus

GSA Number: 7-D-SD-0633-AA

Reason: Conveyance pending.

Land

Tennessee

Parcel 279.01 Property Number: 54201520014

Northwest corner of Administration Rd. & Laboratory Rd

Oak Ridge TN 37830

Status: Surplus

GSA Number: 4-B-TN-0664-AD

Reason: Conveyance pending

Parcel ED-3 E Property Number: 54201520015 and W (168.30 +/- acres)

South Side of Oak Ridge Turnpike

Oak Ridge TN 37763

Status: Surplus

GSA Number: 4-B-TN-0664-AG

Reason: Advertised for sale

Parcels ED-13, 3A, 16 Property Number: 54201530001

Portions of D-8 & ED-4

N. Side of Oak Ridge Turnpike (State Rte. 58)

Oak Ridge TN 37763

Status: Surplus

GSA Number: 4-B-TN-0664-AF

Reason: Expression of interest received.

Building

Texas

3 Bldgs.; Former Hebbronville Property Number: 54201540001

1312 W. Harald Street

Hebbronville TX 78361

Status: Surplus

GSA Number: 7-X-TX-0621-AB

Reason: Expression of interest received

Land

Brownwood Vacant Land Property Number: 54201540008 and Parcel

Morris Sheppard Dr. & Memorial Park

Brownwood TX 78601

Status: Surplus

GSA Number: 7-D-TX-1163-AA

Reason: Expression of interest received

Building

Washington

Old Lynden Border Patrol Property Number: 54201510003

Station; 8334 Guide Meridian Rd.

Lynden WA 98264

Status: Excess

GSA Number: 9-Z-WA-1276

Reason: Advertised for sale.

Land

West Virginia

Former AL1-RCLR Tower Site Property Number: 54201530002

2146 Orleans Rd.,

Great Cacapon WV 25422

Status: Surplus

GSA Number: 4-U-WV-0561AA

Reason: Expression of Interest.

Building

Wisconsin

Canthook Lake—House/Storage Property Number: 54201530009

Canthook Lake

Iron River WI

Status: Excess

GSA Number: 1-A-WI-0624-AA

Reason: Advertised for sale

FM Repeater Station Install.#3 Property Number: 54201540002

Sec. 36, T. 25N, R 13W

Bay City WI

Status: Excess

GSA Number: 1-D-WI-621

Reason: Expression of interest received

Navy

Land

Tennessee

(+/-) 72 Acre Site Property Number: 77201520025

5722 Integrity Dr.

Millington TN 38054

Status: Underutilized

Reason: Existing Federal Need

[FR Doc. 2016-02584 Filed 2-11-16; 8:45 am]

BILLING CODE 4210-67-P